DEPARTMENT OF THE INTERIOR

Fish and Wildlife Service

50 CFR Part 20

[Docket No. FWS-HQ-MB-2017-0028; FF09M21200-178-FXMB1231099BPP0]

RIN 1018-BB73

Migratory Bird Hunting; Seasons and Bag and Possession Limits for Certain Migratory Game Birds

AGENCY: Fish and Wildlife Service, Interior.

ACTION: Final rule.

SUMMARY: This rule prescribes the hunting seasons, hours, areas, and daily bag and possession limits for migratory game birds. Taking of migratory birds is prohibited unless specifically provided for by annual regulations. This rule permits the taking of designated species during the 2018-19 season.

DATES: This rule takes effect on August 14, 2018.

ADDRESSES: You may inspect comments received on the migratory bird hunting regulations during normal business hours at the Service's office at 5275 Leesburg Pike, Falls Church, Virginia. You may obtain copies of referenced reports from the street address above, or from the Division of Migratory Bird Management's website at http://www.fws.gov/migratorybirds/, or at http://www.regulations.gov at Docket No. FWS-HQ-MB-2017-0028.

FOR FURTHER INFORMATION CONTACT: Ron W. Kokel, Division of Migratory Bird Management, U.S. Fish and Wildlife Service, (703) 358-1714.

SUPPLEMENTARY INFORMATION:

Regulations Schedule for 2018

On August 3, 2017, we published a proposal to amend title 50 of the Code of Federal Regulations (CFR) at part 20 (82 FR 36308). The proposal provided a background and overview of the migratory bird hunting regulations process, and addressed the establishment of seasons, limits, and other regulations for hunting migratory game birds under §§ 20.101 through 20.107, 20.109, and 20.110 of subpart K. Major steps in the 2018-19 regulatory cycle relating to open public meetings and Federal Register notifications were also identified in the August 3, 2017, proposed rule.

The August 3, 2017, proposed rule also provided detailed information on the proposed 2018-19 regulatory schedule and announced the Service Regulations Committee (SRC) and Flyway Council meetings.

On October 3, 2017, we published in the Federal Register (82 FR 46011) a second document providing supplemental proposals for migratory bird hunting regulations. The October 3 supplement also provided detailed information on the 2018-19 regulatory schedule and re-announced the SRC meetings. On October 17-18, 2017, we held open meetings with the Flyway Council consultants, at which the participants reviewed information on the current status of migratory game birds and developed recommendations for the 2018-19 regulations for these species. On February 2, 2018, we published in the Federal Register (83 FR 4964) the proposed frameworks for the 2018-19 season migratory bird hunting regulations. On June 4, 2018, we published in the Federal Register (83 FR 25738) final season frameworks for migratory game bird hunting regulations, from which State wildlife conservation agency officials selected season hunting dates, hours, areas, and limits for 2018-19 seasons.

The final rule described here is the final in the series of proposed, supplemental, and final rulemaking documents for migratory game bird hunting regulations for 2018-19, and deals specifically with amending subpart K of 50 CFR part 20. It sets hunting seasons, hours, areas, and limits for migratory game bird species. This final rule is the culmination of the rulemaking process for the migratory game bird hunting seasons, which started with the August 3, 2017, proposed rule. As discussed elsewhere in this document, we supplemented that proposal on October 3, 2017, and February 2, 2018, and published final season frameworks on June 4, 2018, that provided the season selection criteria from which the States selected these seasons. This final rule sets the migratory game bird hunting seasons based on that input from the States. We previously addressed all comments in the June 4 Federal Register.

Required Determinations

Executive Order 13771—Reducing Regulation and Controlling Regulatory Costs

This action is not subject to Executive Order (E.O.) 13771 (82 FR 9339, February 3, 2017) because it establishes annual harvest limits related to routine hunting or fishing.

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA (42 U.S.C. 4321 et seq.) compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2018-19,” with its corresponding May 2018 finding of no significant impact. The programmatic document, as well as the separate environmental assessment, is available on our website at https://www.fws.gov/migratorybirds/pdf/policies-and-regulations/FSEISIssuanceofAnnualRegulations.pdf and http://www.regulations.gov at Docket No. FWS-HQ-MB-2017-0028, respectively.

Endangered Species Act Consideration

Section 7 of the Endangered Species Act of 1973, as amended (16 U.S.C. 1531 et seq.), provides that, “The Secretary shall review other programs administered by him and utilize such programs in furtherance of the purposes of this Act” (and) shall “insure that any action authorized, funded, or carried out * * * is not likely to jeopardize the continued existence of any endangered species or threatened species or result in the destruction or adverse modification of [critical] habitat. * * *.” Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Additionally, these findings may have caused modification of some regulatory measures previously proposed, and the final frameworks (83 FR 25738; June 4, 2018) reflect any such modifications. Our biological opinions resulting from this section 7 consultation are public documents available for public inspection at the address indicated under ADDRESSES.

Regulatory Planning and Review (Executive Orders 12866 and 13563)

E.O. 12866 provides that the Office of Information and Regulatory Affairs (OIRA) will review all significant rules. OIRA has reviewed this rule and has determined that this rule is significant because it will have an annual effect of $100 million or more on the economy.

E.O. 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An economic analysis was prepared for the 2018-19 season. This analysis was based on data from the 2011 National Hunting and Fishing Survey, the most recent year for which data are available (see discussion under Regulatory Flexibility Act, below). This analysis estimated consumer surplus for three alternatives for duck hunting (estimates for other species are not quantified due to lack of data). The alternatives are (1) issue restrictive regulations allowing fewer days than those issued during the 2017-18 season, (2) issue moderate regulations allowing more days than those in alternative 1, and (3) issue liberal regulations identical to the regulations in the 2017-18 season. For the 2018-19 season, we chose Alternative 3, with an estimated consumer surplus across all flyways of $334-$440 million with a mid-point estimate of $387 million. We also chose alternative 3 for the 2009-10, the 2010-11, the 2011-12, the 2012-13, the 2013-14, the 2014-15, the 2015-16, the 2016-17, and the 2017-18 seasons. The 2018-19 analysis is part of the record for this rule and is available at http://www.regulations.gov at Docket No. FWS-HQ-MB-2017-0028.

Regulatory Flexibility Act

The annual migratory bird hunting regulations have a significant economic impact on substantial numbers of small entities under the Regulatory Flexibility Act (5 U.S.C. 601 et seq.). We analyzed the economic impacts of the annual hunting regulations on small business entities in detail as part of the 1981 cost-benefit analysis. This analysis was revised annually from 1990-95. In 1995, the Service issued a Small Entity Flexibility Analysis (Analysis), which was subsequently updated in 1996, 1998, 2004, 2008, 2013, and 2018. The primary source of information about hunter expenditures for migratory game bird hunting is the National Hunting and Fishing Survey, which is conducted at 5-year intervals. The 2018 Analysis was based on the 2011 National Hunting and Fishing Survey and the U.S. Department of Commerce's County Business Patterns, from which it was estimated that migratory bird hunters would spend approximately $1.5 billion at small businesses in 2018. Copies of the Analysis are available upon request from the Division of Migratory Bird Management (see FOR FURTHER INFORMATION CONTACT) or from http://www.regulations.gov at Docket No. FWS-HQ-MB-2017-0028.

Small Business Regulatory Enforcement Fairness Act

This final rule is a major rule under 5 U.S.C. 804(2), the Small Business Regulatory Enforcement Fairness Act. For the reasons outlined above, this rule will have an annual effect on the economy of $100 million or more. However, because this rule establishes hunting seasons, we do not plan to defer the effective date under the exemption contained in 5 U.S.C. 808(1).

Paperwork Reduction Act

An agency may not conduct or sponsor, and a person is not required to respond to, a collection of information unless it displays a currently valid Office of Management and Budget (OMB) control number. This rule does not contain any new collection of information that require approval by OMB under the Paperwork Reduction Act of 1995 (44 U.S.C. 3501 et seq.). OMB has previously approved the information collection requirements associated with migratory bird surveys and the procedures for establishing annual migratory bird hunting seasons under the following OMB control numbers:

• 1018-0019, “North American Woodcock Singing Ground Survey” (expires 6/30/2021).

• 1018-0023, “Migratory Bird Surveys, 50 CFR 20.20” (expires 8/31/2020). Includes Migratory Bird Harvest Information Program, Migratory Bird Hunter Surveys, Sandhill Crane Survey, and Parts Collection Survey.

• 1018-0171, “Establishment of Annual Migratory Bird Hunting Seasons, 50 CFR part 20” (expires 06/30/2021).

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of E.O. 12988.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule allows hunters to exercise otherwise unavailable privileges and, therefore, reduces restrictions on the use of private and public property.

Energy Effects—Executive Order 13211

E.O. 13211 requires agencies to prepare Statements of Energy Effects when undertaking certain actions. While this rule is a significant regulatory action under E.O. 12866, it is not expected to adversely affect energy supplies, distribution, or use. Therefore, this action is not a significant energy action, and no Statement of Energy Effects is required.

Government-to-Government Relationship With Tribes

In accordance with the President's memorandum of April 29, 1994, “Government-to-Government Relations with Native American Tribal Governments” (59 FR 22951), Executive Order 13175, and 512 DM 2, we have evaluated possible effects on Federally recognized Indian tribes and have determined that there are no effects on Indian trust resources. However, in the August 3, 2017, Federal Register (82 FR 36308), we solicited proposals for special migratory bird hunting regulations for certain Tribes on Federal Indian reservations, off-reservation trust lands, and ceded lands for the 2018-19 migratory bird hunting season. The resulting proposals were contained in a May 23, 2018 (83 FR 23869), proposed rule. By virtue of these actions, we have consulted with affected Tribes.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States through the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a federalism summary impact statement.

Review of Public Comments

The preliminary proposed rulemaking (August 3, 2017; 82 FR 36308) opened the public comment period for 2018-19 migratory game bird hunting regulations. We previously addressed all comments in a June 4, 2018, Federal Register publication (83 FR 25738).

Regulations Promulgation

The rulemaking process for migratory game bird hunting, by its nature, operates under a time constraint as seasons must be established each year or hunting seasons remain closed. However, we intend that the public be provided extensive opportunity for public input and involvement in compliance with Administrative Procedure Act (5 U.S.C. subchapter II) requirements. Thus, when the preliminary proposed rulemaking was published, we established what we believed were the longest periods possible for public comment and the most opportunities for public involvement. We also provided notification of our participation in multiple Flyway Council meetings, opportunities for additional public review and comment on all Flyway Council proposals for regulatory change, and opportunities for additional public review during the Service Regulations Committee meeting. Therefore, we believe that sufficient public notice and opportunity for involvement have been given to affected persons.

Further, States need sufficient time to communicate these season selections to their affected publics, and to establish and publicize the necessary regulations and procedures to implement these seasons. Thus, we find that “good cause” exists, within the terms of 5 U.S.C. 553(d)(3) of the Administrative Procedure Act, and therefore, under authority of the Migratory Bird Treaty Act (July 3, 1918), as amended (16 U.S.C. 703-711), these regulations will take effect less than 30 days after publication. Accordingly, with each conservation agency having had an opportunity to participate in selecting the hunting seasons desired for its State or Territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Dated: July 17, 2018.
Susan Combs,
Senior Advisor to the Secretary, Exercising the Authority of the Assistant Secretary for Fish and Wildlife and Parks.

For the reasons set out in the preamble, title 50, chapter I, subchapter B, part 20, subpart K of the Code of Federal Regulations is amended as follows:

PART 20—MIGRATORY BIRD HUNTING

1. The authority citation for part 20 continues to read as follows:

Authority: 16 U.S.C. 703 et seq., and 16 U.S.C. 742a-j.

Note— The following annual hunting regulations provided for by §§ 20.101 through 20.107 and 20.109 of 50 CFR part 20 will not appear in the Code of Federal Regulations because of their seasonal nature.

2. Section 20.101 is revised to read as follows:

§ 20.101 Seasons, limits, and shooting hours for Puerto Rico and the Virgin Islands.

Subject to the applicable provisions of the preceding sections of this part, areas open to hunting, respective open seasons (dates inclusive), shooting and hawking hours, and daily bag and possession limits for the species designated in this section are prescribed as follows:

Shooting and hawking hours are one-half hour before sunrise until sunset.

CHECK COMMONWEALTH REGULATIONS FOR AREA DESCRIPTIONS AND ANY ADDITIONAL RESTRICTIONS.

(a) Puerto Rico.

| Season dates | Limits: Bag | Limits: Possession
Doves and Pigeons:
Zenaida, white-winged, and mourning doves (1) | Sept. 1-Oct. 29 | 20 | 20
Scaly-naped pigeons | Closed |  |
Ducks | Nov. 10-Dec. 17 & Jan. 12-Jan. 28 | 6 6 | 12 12
Common Moorhens | Nov. 10-Dec. 17 & Jan. 12-Jan. 28 | 6 6 | 12 12
Common Snipe | Nov. 10-Dec. 17 & Jan. 12-Jan. 28 | 8 8 | 16 16
(1) Not more than 10 Zenaida and 3 mourning doves in the aggregate.

Restrictions: In Puerto Rico, the season is closed on the ruddy duck, white-cheeked pintail, West Indian whistling duck, fulvous whistling duck, masked duck, purple gallinule, American coot, Caribbean coot, white-crowned pigeon, and plain pigeon.

Closed Areas: Closed areas are described in the June 4, 2018, Federal Register (83 FR 25738).

(b) Virgin Islands

| Season dates | Limits: Bag | Limits: Possession
Zenaida doves | Sept. 1-Sept. 30 | 10 | 10
Ducks | CLOSED |  |

Restrictions: In the Virgin Islands, the seasons are closed for ground or quail doves, pigeons, ruddy duck, white-cheeked pintail, West Indian whistling duck, fulvous whistling duck, masked duck, and all other ducks, and purple gallinule.

Closed Areas: Ruth Cay, just south of St. Croix, is closed to the hunting of migratory game birds. All Offshore Cays under jurisdiction of the Virgin Islands Government are closed to the hunting of migratory game birds.

3. Section 20.102 is revised to read as follows:

§ 20.102 Seasons, limits, and shooting hours for Alaska.

Subject to the applicable provisions of the preceding sections of this part, areas open to hunting, respective open seasons (dates inclusive), shooting and hawking hours, and daily bag and possession limits for the species designated in this section are prescribed as follows:

Shooting and hawking hours are one-half hour before sunrise until sunset. Area descriptions were published in the June 4, 2018, Federal Register (83 FR 25738).

CHECK STATE REGULATIONS FOR AREA DESCRIPTIONS AND ANY ADDITIONAL RESTRICTIONS.

Area seasons | Dates
North Zone | Sept. 1-Dec. 16.
Gulf Coast Zone | Sept. 1-Dec. 16.
Southeast Zone | Sept. 16-Dec. 31.
Pribilof and Aleutian Islands Zone | Oct. 8-Jan. 22.
Kodiak Zone | Oct. 8-Jan. 22.

Area | Daily bag and possession limits: Ducks (1) | Daily bag and possession limits: Canada Geese (2)(3) | Daily bag and possession limits: White Fronted Geese (4)(5) | Daily bag and possession limits: Light Geese (6) | Daily bag and possession limits: Brant | Daily bag and possession limits: Emperor Geese (7)(8) | Daily bag and possession limits: Snipe | Daily bag and possession limits: Sandhill Cranes (9)
North Zone | 10-30 | 4-12 | 4-12 | 6-18 | 3-9 | 1-1 | 8-24 | 3-9
Gulf Coast Zone | 8-24 | 4-12 | 4-12 | 6-18 | 3-9 | 1-1 | 8-24 | 2-6
Southeast Zone | 7-21 | 4-12 | 4-12 | 6-18 | 3-9 | 1-1 | 8-24 | 2-6
Pribilof and Aleutian Islands Zone | 7-21 | 6-18 | 6-18 | 6-18 | 3-9 | 1-1 | 8-24 | 2-6
Kodiak Zone | 7-21 | 4-12 | 4-12 | 6-18 | 3-9 | 1-1 | 8-24 | 2-6
(1) The basic duck bag limits may include no more than 2 canvasbacks daily, and may not include sea ducks. In addition to the basic duck limits, the sea duck limit is 10 daily (singly or in the aggregate), including no more than 6 each of either harlequin or long-tailed ducks. Sea ducks include scoters, common and king eiders, harlequin ducks, long-tailed ducks, and common and red-breasted mergansers. The season for Steller's and spectacled eiders is closed.
(2) In Units 5 and 6, the taking of Canada geese is only permitted from September 28 through December 16. In the Middleton Island portion of Unit 6, the taking of Canada geese is by special permit only. The maximum number of Canada goose permits is 10 for the season. A mandatory goose- identification class is required. Hunters must check in and out. The daily bag and possession limit is 1. The season will close if harvest includes 5 dusky Canada geese. A dusky Canada goose is any dark-breasted Canada goose (Munsell 10 YR color value five or less) with a bill length between 40 and 50 millimeters.
(3) In Units 9, 10, 17, and 18, for Canada geese, the daily bag limit is 6 and the possession limit is 18.
(4) In Units 9, 10, and 17, for white-fronted geese, the daily bag limit is 6 and the possession limit is 18.
(5) In Unit 18, for white-fronted geese, the daily bag limit is 10 and the possession limit is 30.
(6) Light geese include snow geese and Ross's geese.
(7) In Unit 8, the Kodiak Island Roaded Area is closed to emperor goose hunting. The Kodiak Island Roaded Area consists of all lands and water (including exposed tidelands) east of a line extending from Crag Point in the north to the west end of Saltery Cove in the south and all lands and water south of a line extending from Termination Point along the north side of Cascade Lake extending to Anton Larsen Bay. Marine waters adjacent to the closed area are closed to harvest within 500 feet from the water's edge. The offshore islands are open to harvest, for example: Woody, Long, Gull and Puffin Islands.
(8) Emperor goose hunting is by State permit only; no more than 1 emperor goose may be harvested per hunter per season. Hunters will be required to file a harvest report with the State after harvesting an emperor goose. Total emperor goose harvest may not exceed 1,000 birds. See State regulations for specific dates, times, and conditions of permit hunts and closures.
(9) In Unit 17 of the North Zone, for sandhill cranes, the daily bag limit is 2 and the possession limit is 6.

Falconry: The total combined bag and possession limit for migratory game birds taken with the use of a raptor under a falconry permit is 3 per day, 9 in possession, and may not exceed a more restrictive limit for any species listed in this subsection.

Special Tundra Swan Season: In Units 17, 18, 22, and 23, there will be a tundra swan season from September 1 through October 31 with a season limit of 3 tundra swans per hunter. This season is by State permit only; hunters will be issued 1 permit allowing the take of up to 3 tundra swans. Hunters will be required to file a harvest report with the State after the season is completed. Up to 500 permits may be issued in Unit 18; 300 permits each in Units 22 and 23; and 200 permits in Unit 17.

4. Section 20.103 is revised to read as follows:

§ 20.103 Seasons, limits, and shooting hours for doves and pigeons.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the June 4, 2018, Federal Register (83 FR 25738).

CHECK STATE REGULATIONS FOR AREA DESCRIPTIONS AND ANY ADDITIONAL RESTRICTIONS.

(a) Doves

Note: Unless otherwise noted, the seasons listed below are for mourning and white-winged doves. Daily bag and possession limits are in the aggregate for the two species.

| Season dates | Limits: Bag | Limits: Possession
EASTERN MANAGEMENT UNIT
Alabama:
North Zone:
12 noon to sunset | Sept. 8 only | 15 | 15
1/2 hour before sunrise to sunset | Sept. 9-Oct. 14 & Nov. 17-Nov. 25 & Dec. 15-Jan. 27 | 15 15 15 | 45 45 45
South Zone:
12 noon to sunset | Sept. 15 only | 15 | 15
1/2 hour before sunrise to sunset | Sept. 16-Oct. 21 & Nov. 17-Nov. 25 & Dec. 15-Jan. 27 | 15 15 15 | 45 45 45
Delaware | Sept. 1-Oct. 1 & Nov. 19-Jan. 31 | 15 15 | 45 45
Florida:
12 noon to sunset | Sept. 22-Oct. 14 | 15 | 45
1/2 hour before sunrise to sunset | Nov. 10-Dec. 2 & Dec. 19-Jan. 31 | 15 15 | 45 45
Georgia:
12 noon to sunset | Sept. 1 only | 15 | 15
1/2 hour before sunrise to sunset | Sept. 2-Sept. 16 & Oct. 13-Oct. 31 & Nov. 22-Jan. 15 | 15 15 15 | 45 45 45
Illinois (1) | Sept. 1-Nov. 14 & Dec. 26-Jan. 9 | 15 15 | 45 45
Indiana | Sept. 1-Oct. 14 & Nov. 1-Nov. 18 & Dec. 8-Jan. 4 | 15 15 15 | 45 45 45
Kentucky:
11 a.m. to sunset | Sept. 1 only | 15 | 15
1/2 hour before sunrise to sunset | Sept. 2-Oct. 26 & Nov. 22-Dec. 2 & Dec. 22-Jan. 13 | 15 15 15 | 45 45 45
Louisiana:
North Zone:
1/2 hour before sunrise to sunset | Sept. 1-Sept. 23 & Oct. 6-Nov. 11 & Dec. 16-Jan. 14 | 15 15 15 | 45 45 45
South Zone:
1/2 hour before sunrise to sunset | Sept. 1-Sept. 9 & Oct. 6-Nov. 25 & Dec. 16-Jan. 14 | 15 15 15 | 45 45 45
Maryland:
12 noon to sunset | Sept. 1-Oct. 20 | 15 | 45
1/2 hour before sunrise to sunset | Oct. 27-Nov. 23 & Dec. 18-Jan. 12 | 15 15 | 45 45
Mississippi:
North Zone | Sept. 1-Oct. 7 & Oct. 27-Nov. 7 & Dec. 22-Jan. 31 | 15 15 15 | 45 45 45
South Zone | Sept. 1-Sept. 9 & Oct. 6-Nov. 7 & Dec. 15-Jan. 31 | 15 15 15 | 45 45 45
North Carolina | Sept. 1-Oct. 6 & Nov. 17-Dec. 1 & Dec. 10-Jan. 31 | 15 15 15 | 45 45 45
Ohio | Sept. 1-Nov. 4 & Dec. 15-Jan. 8 | 15 15 | 45 45
Pennsylvania:
1/2 hour before sunrise to sunset | Sept. 1-Nov. 24 Dec. 18-Jan. 5 | 15 15 | 45 45
Rhode Island:
12 noon to sunset | Sept. 8-Oct. 7 | 15 | 45
1/2 hour before sunrise to sunset | Oct. 20-Dec. 2 & Dec. 8-Dec. 23 | 15 15 | 45 45
South Carolina:
12 noon to sunset | Sept. 1-Sept. 3 | 15 | 45
1/2 hour before sunrise to sunset | Sept. 4-Oct. 13 & Nov. 10-Nov. 24 & Dec. 15-Jan. 15 | 15 15 15 | 45 45 45
Tennessee:
12 noon to sunset | Sept. 1 only | 15 | 15
1/2 hour before sunrise to sunset | Sept. 2-Sept. 28 & Oct. 13-Nov. 4 & Dec. 8-Jan. 15 | 15 15 15 | 45 45 45
Virginia:
12 noon to sunset | Sept. 1 only | 15 | 45
1/2 hour before sunrise to sunset | Sept. 2-Oct. 28 & Nov. 21-Nov. 28 & Dec. 22-Jan. 14 | 15 15 15 | 45 45 45
West Virginia:
12 noon to sunset | Sept. 1 only | 15 | 15
1/2 hour before sunrise to sunset | Sept. 2-Oct. 13 & Oct. 29-Nov. 17 & Dec. 17-Jan. 12 | 15 15 15 | 45 45 45
Wisconsin | Sept. 1-Nov. 29 | 15 | 45
CENTRAL MANAGEMENT UNIT
Arkansas | Sept. 1-Oct. 28 & Dec. 15-Jan. 15 | 15 15 | 45 45
Colorado | Sept. 1-Nov. 29 | 15 | 45
Iowa | Sept. 1-Nov. 29 | 15 | 45
Kansas | Sept. 1-Nov. 29 | 15 | 45
Minnesota | Sept. 1-Nov. 29 | 15 | 45
Missouri | Sept. 1-Nov. 29 | 15 | 45
Montana | Sept. 1-Oct. 30 | 15 | 45
Nebraska | Sept. 1-Oct. 30 | 15 | 45
New Mexico:
North Zone | Sept. 1-Nov. 29 | 15 | 45
South Zone | Sept. 1-Oct. 28 & Dec. 1-Jan. 1 | 15 15 | 45 45
North Dakota | Sept. 1-Nov. 29 | 15 | 45
Oklahoma | Sept. 1-Oct. 31 & Dec. 1-Dec. 29 | 15 15 | 45 45
South Dakota | Sept. 1-Nov. 9 | 15 | 45
Texas (2):
North Zone | Sept. 1-Nov. 4 & Dec. 21-Jan. 14 | 15 15 | 45 45
Central Zone | Sept. 1-Nov. 4 & Dec. 21-Jan. 14 | 15 15 | 45 45
South Zone | Sept. 14-Oct. 30 & Dec. 14-Jan. 21 | 15 15 | 45 45
(Special Season) | Sept. 1-Sept. 2 & | 15 | 45
12 noon to sunset | Sept. 8-Sept. 9 | 15 | 45
Wyoming | Sept. 1-Nov. 29 | 15 | 45
WESTERN MANAGEMENT UNIT
Arizona (3) | Sept. 1-Sept. 15 & Nov. 23-Jan. 6 | 15 15 | 45 45
California (4) | Sept. 1-Sept. 15 & Nov. 10-Dec. 24 | 15 15 | 45 45
Idaho | Sept. 1-Oct. 30 | 15 | 45
Nevada | Sept. 1-Oct. 30 | 15 | 45
Oregon | Sept. 1-Oct. 30 | 15 | 45
Utah | Sept. 1-Oct. 30 | 15 | 45
Washington | Sept. 1-Oct. 30 | 15 | 45
OTHER POPULATIONS
Hawaii (5) | Nov. 4-Jan. 17 | 10 | 30
(1) In Illinois, shooting hours are sunrise to sunset.
(2) In Texas, the daily bag limit is 15 mourning, white-winged, and white-tipped doves in the aggregate, of which no more than 2 may be white-tipped doves with a maximum 90-day season. Possession limits are three times the daily bag limit. During the special season in the Special White-winged Dove Area of the South Zone, the daily bag limit is 15 mourning, white-winged, and white-tipped doves in the aggregate, of which no more than 2 may be mourning doves and 2 may be white-tipped doves. Possession limits are three times the daily bag limit.
(3) In Arizona, during September 1 through 15, the daily bag limit is 15 mourning and white-winged doves in the aggregate, of which no more than 10 may be white-winged doves. During November 23 through January 6, the daily bag limit is 15 mourning doves.
(4) In California, the daily bag limit is 15 mourning and white-winged doves in the aggregate, of which no more than 10 may be white-wing doves.
(5) In Hawaii, the season is only open on the islands of Hawaii and Maui. On the island of Hawaii, the daily bag limit is 10 mourning doves, spotted doves, and chestnut-bellied sandgrouse in the aggregate. On the island of Maui, the daily bag limit is 10 mourning doves. Shooting hours are from one-half hour before sunrise through one-half hour after sunset. See State regulations for additional restrictions on hunting dates and areas.

(b) Band-tailed Pigeons

| Season dates | Limits: Bag | Limits: Possession
Arizona | Oct. 5-Oct. 18 | 2 | 6
California:
North Zone | Sept. 15-Sept. 23 | 2 | 6
South Zone | Dec. 15-Dec. 23 | 2 | 6
Colorado (1) | Sept. 1-Sept. 14 | 2 | 6
New Mexico (1):
North Zone | Sept. 1-Sept. 14 | 2 | 6
South Zone | Oct. 1-Oct. 14 | 2 | 6
Oregon | Sept. 15-Sept. 23 | 2 | 6
Utah (1) | Sept. 1-Sept. 14 | 2 | 6
Washington | Sept. 15-Sept. 23 | 2 | 6
(1) Each band-tailed pigeon hunter must have a band-tailed pigeon hunting permit issued by the State.

5. Section 20.104 is revised to read as follows:

§ 20.104 Seasons, limits, and shooting hours for rails, woodcock, and snipe.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the June 4, 2018, Federal Register (83 FR 25738).

CHECK STATE REGULATIONS FOR AREA DESCRIPTIONS AND ANY ADDITIONAL RESTRICTIONS.

| Sora and Virginia Rails | Clapper and King Rails | Woodcock | Snipe
Daily bag limit | 25 (1) | 15 (2) | 3 | 8.
Possession limit | 75 (1) | 45 (2) | 9 | 24.
ATLANTIC FLYWAY
Connecticut (3) | Sept. 1-Nov.12 | Sept. 1-Nov. 12 | Oct. 22-Nov. 17 & Nov. 19-Dec. 12 | Oct. 22-Nov. 17 & Nov. 19-Dec. 12.
Delaware | Sept. 1-Nov. 21 | Sept. 1-Nov. 21 | Nov. 19-Nov. 24 & Dec. 15-Jan. 29 | Sept. 7-Nov. 24 & Dec. 15-Jan. 29.
Florida | Sept. 1-Nov. 9 | Sept. 1-Nov. 9 | Dec. 18-Jan. 31 | Nov. 1-Feb. 15.
Georgia | Sept. 21-Nov. 11 & Nov. 22-Dec. 9 | Sept. 21-Nov. 11 & Nov. 22-Dec. 9 | Dec. 8-Jan. 21 | Nov. 15-Feb. 28.
Maine (4) | Sept. 1-Nov. 9 | Closed | Oct. 1-Nov. 21 | Sept. 1-Dec. 15.
Maryland (5) | Sept. 1-Nov. 21 | Sept. 1-Nov. 21 | Oct. 24-Nov. 23 & Jan. 7-Jan. 26 | Sept. 29-Jan. 31.
Massachusetts (6) | Sept. 1-Nov. 7 | Closed | Oct. 4-Nov. 24 | Sept. 1-Dec. 16.
New Hampshire | Closed | Closed | Oct. 1-Nov. 14 | Sept. 15-Nov. 14.
New Jersey (7):
North Zone | Sept. 1-Nov. 21 | Sept. 1-Nov. 21 | Oct. 20-Nov. 3 & Nov. 6 Dec. 1 | Sept. 15-Jan. 17.
South Zone | Sept. 1-Nov. 21 | Sept. 1-Nov. 21 | Nov. 10-Dec. 1 & Dec. 13-Jan. 1 | Sept. 15-Jan. 17.
New York (8) | Sept. 1-Nov. 9 | Closed | Oct. 1-Nov. 14 | Sept. 1-Nov. 9.
North Carolina | Sept. 1-Oct. 13 & Oct. 22-Nov. 28 | Sept. 1-Oct. 13 & Oct. 22-Nov. 28 | Dec. 8-Jan. 29 | Oct. 27-Feb. 28.
Pennsylvania (9) | Sept. 1-Nov. 21 | Closed | Oct. 13-Nov. 24 & Dec. 10-Dec. 18 | Oct. 13-Nov. 24 & Dec. 10-Dec. 18.
Rhode Island (10) | Sept. 1-Nov. 9 | Sept. 1-Nov. 9 | Oct. 20-Dec. 3 | Sept. 1-Nov. 9.
South Carolina | Oct. 5-Oct. 10 & Nov. 5-Jan. 7 | Oct. 5-Oct. 10 & Nov. 5-Jan. 7 | Dec. 18-Jan. 31 | Nov. 14-Feb. 28.
Vermont | Closed | Closed | Oct. 1-Nov. 14 | Oct. 1-Nov. 14.
Virginia | Sept. 8-Nov. 16 | Sept. 8-Nov. 16 | Oct. 27-Nov. 2 & Dec. 8-Jan. 14 | Oct. 5-Oct. 8 & Oct. 21-Jan. 31.
West Virginia (11) | Sept. 1-Nov. 9 | Closed | Oct. 13-Nov. 17 & Nov. 26-Dec. 4 | Sept. 1-Dec. 16.
MISSISSIPPI FLYWAY
Alabama | Sept. 8-Sept. 23 & Nov. 23-Jan. 15 | Sept. 8-Sept. 23 & Nov. 23-Jan. 15 | Dec. 14-Jan. 27 | Nov. 10-Feb. 24.
Arkansas | Sept. 8-Nov. 16 | Closed | Nov. 3-Dec. 17 | Nov. 1-Feb. 15.
Illinois (12) | Sept. 8-Nov. 16 | Closed | Oct. 20-Dec. 3 | Sept. 8-Dec. 23.
Indiana (13) | Sept. 1-Nov. 9 | Closed | Oct. 15-Nov. 28 | Sept. 1-Dec. 16.
Iowa (14) | Sept. 1-Nov. 9 | Closed | Oct. 6-Nov. 19 | Sept. 1-Nov. 30.
Kentucky | Sept. 1-Nov. 9 | Closed | Oct. 27-Nov. 9 & Nov. 12-Dec. 12 | Sept. 19-Oct. 28 & Nov. 22-Jan. 27.
Louisiana | Sept. 15-Sept. 30 & Nov. 10-Jan. 2 | Sept. 15-Sept. 30 & Nov. 10-Jan. 2 | Dec. 18-Jan. 31 | Nov. 2-Dec. 2 & Dec. 15-Feb. 28.
Michigan | Sept. 1-Nov. 9 | Closed | Sept. 22-Nov. 5 | Sept. 1-Nov. 9.
Minnesota | Sept. 1-Nov. 5 | Closed | Sept. 22-Nov. 5 | Sept. 1-Nov. 5.
Mississippi | Sept. 1-Sept. 30 & Nov. 23-Jan. 1 | Sept. 1-Sept. 30 & Nov. 23-Jan. 1 | Dec. 18-Jan. 31 | Nov. 14-Feb. 28.
Missouri | Sept. 1-Nov. 9 | Closed | Oct. 15-Nov. 28 | Sept. 1-Dec. 16.
Ohio | Sept. 1-Nov. 9 | Closed | Oct. 12-Nov. 25 | Sept. 1-Nov. 25 & Dec. 15-Jan. 4.
Tennessee:
Reelfoot Zone | Sept. 1-Nov. 9 | Closed | Nov. 10-Dec. 24 | Nov. 14-Feb. 28.
State Zone | Sept. 1-Nov. 9 | Closed | Nov. 10-Dec. 24 | Nov. 14-Feb. 28.
Wisconsin:
North Zone | Sept. 29-Nov. 27 | Closed | Sept. 22-Nov. 5 | Sept. 29-Nov. 27.
South Zone | Sept. 29-Oct. 7 & Oct. 13-Dec. 2 | Closed | Sept. 22-Nov. 5 | Sept. 29-Oct. 7 & Oct. 13-Dec. 2.
Miss. River River | Sept. 29-Oct. 5 & Oct. 13-Dec. 4 | Closed | Sept. 22-Nov. 5 | Sept. 29-Oct. 5 & Oct. 13-Dec. 4.
CENTRAL FLYWAY
Colorado | Sept. 1-Nov. 9 | Closed | Closed | Sept. 1-Dec. 16.
Kansas | Sept. 1-Nov. 9 | Closed | Oct. 13-Nov. 26 | Sept. 1-Dec. 16.
Montana | Closed | Closed | Closed | Sept. 1-Dec. 16.
Nebraska (15) | Sept. 1-Nov. 9 | Closed | Sept. 22-Nov. 5 | Sept. 1-Dec. 16.
New Mexico (16) | Sept. 15-Nov. 23 | Closed | Closed | Oct. 13-Jan. 27.
North Dakota | Closed | Closed | Sept. 22-Nov. 5 | Sept. 15-Dec. 2.
Oklahoma | Sept. 1-Nov. 9 | Closed | Nov. 1-Dec. 15 | Oct. 1-Jan. 15.
South Dakota (17) | Closed | Closed | Closed | Sept. 1-Oct. 31.
Texas | Sept. 15-Sept. 30 & Nov. 3-Dec. 26 | Sept. 15-Sept. 30 & Nov. 3-Dec. 26 | Dec. 18-Jan. 31 | Oct. 27-Feb. 10.
Wyoming | Sept. 1-Nov. 9 | Closed | Closed | Sept. 1-Dec. 16.
PACIFIC FLYWAY
Arizona (18):
North Zone | Closed | Closed | Closed | Oct. 5-Jan. 13.
South Zone | Closed | Closed | Closed | Oct. 19-Jan. 27.
California | Closed | Closed | Closed | Oct. 20-Feb. 3.
Colorado | Sept. 1-Nov. 9 | Closed | Closed | Sept. 1-Dec. 16.
Idaho:
Zone 1 | Closed | Closed | Closed | Oct. 6-Jan. 18.
Zone 2 | Closed | Closed | Closed | Oct. 6-Jan. 18.
Zone 3 | Closed | Closed | Closed | Oct. 13-Jan. 25.
Zone 4 | Closed | Closed | Closed | Oct. 6-Jan. 18.
Montana | Closed | Closed | Closed | Sept. 1-Dec. 16.
Nevada:
Northeast Zone | Closed | Closed | Closed | Sept. 22-Oct. 21 & Oct. 24-Jan. 6.
Northwest Zone | Closed | Closed | Closed | Oct. 6-Oct. 21 & Oct. 24-Jan. 20.
South Zone (19) | Closed | Closed | Closed | Oct. 13-Oct. 21 & Oct. 24-Jan. 27.
New Mexico | Sept. 15-Nov. 23 | Closed | Closed | Oct. 15-Jan. 29.
Oregon:
Zone 1 | Closed | Closed | Closed | Nov. 3-Feb. 17.
Zone 2 | Closed | Closed | Closed | Oct. 6-Nov. 25 & Nov. 28-Jan. 20.
Utah
Zone 1 | Closed | Closed | Closed | Oct. 6-Jan. 19.
Zone 2 | Closed | Closed | Closed | Oct. 13-Jan. 26.
Washington:
East Zone | Closed | Closed | Closed | Oct. 13-Oct. 31 & Nov. 3-Jan. 27.
West Zone | Closed | Closed | Closed | Oct. 13-Oct. 31 & Nov. 3-Jan. 27.
Wyoming | Sept. 1-Nov. 9 | Closed | Closed | Sept. 1-Dec. 16.
(1) The daily bag and possession limits for sora and Virginia rails apply singly or in the aggregate of the two species.
(2) All daily bag and possession limits for clapper and king rails apply singly or in the aggregate of the two species and, unless otherwise specified, the limits are in addition to the limits on sora and Virginia rails in all States. In Delaware, Maryland, and New Jersey, the limits for clapper and king rails are 10 daily and 30 in possession.
(3) In Connecticut, the limits for clapper and king rails apply singly or in the aggregate of the two species. Limits for clapper and king rail are 10 daily and 30 in possession and may include no more than 1 king rail per day.
(4) In Maine, the daily bag and possession limit for sora and Virginia rails is 25.
(5) In Maryland, no more than 1 king rail may be taken per day.
(6) In Massachusetts, the sora rail limits are 5 daily and 15 in possession; the Virginia rail limits are 10 daily and 30 in possession.
(7) In New Jersey, the season for king rail is closed by State regulation.
(8) In New York, the rail daily bag and possession limits are 8 and 24, respectively. Seasons for sora and Virginia rails and snipe are closed on Long Island.
(9) In Pennsylvania, the daily bag and possession limits for sora and Virginia rails, singly or in the aggregate, are 3 and 9, respectively.
(10) In Rhode Island, the sora and Virginia rails limits are 3 daily and 9 in possession, singly or in the aggregate; the clapper and king rail limits are 1 daily and 3 in possession, singly or in the aggregate; the snipe limits are 5 daily and 15 in possession.
(11) In West Virginia, the daily bag and possession limit for sora and Virginia rails is 25; the possession limit for snipe is 16.
(12) In Illinois, shooting hours are from sunrise to sunset.
(13) In Indiana, the season on Virginia rails is closed.
(14) In Iowa, the limits for sora and Virginia rails are 12 daily and 36 in possession.
(15) In Nebraska, the rail limits are 10 daily and 30 in possession.
(16) In New Mexico, in the Central Flyway portion of the State, the rail limits are 10 daily and 20 in possession.
(17) In South Dakota, the snipe limits are 5 daily and 15 in possession.
(18) In Arizona, Ashurst Lake in Unit 5B is closed to snipe hunting.
(19) In Nevada, the snipe season in that portion of the South Zone including the Moapa Valley to the confluence of the Muddy and Virgin rivers is only open October 27 through January 27.

6. Section 20.105 is revised to read as follows:

§ 20.105 Seasons, limits, and shooting hours for waterfowl, coots, and gallinules.

Subject to the applicable provisions of the preceding sections of this part, areas open to hunting, respective open seasons (dates inclusive), shooting and hawking hours, and daily bag and possession limits for the species designated in this section are prescribed as follows:

Shooting and hawking hours are one-half hour before sunrise until sunset, except as otherwise noted. Area descriptions were published in the June 4, 2018, Federal Register (83 FR 25738).

CHECK STATE REGULATIONS FOR AREA DESCRIPTIONS AND ANY ADDITIONAL RESTRICTIONS.

(a) Common Moorhens and Purple Gallinules

| Season dates | Limits: Bag | Limits: Possession
ATLANTIC FLYWAY
Delaware | Sept. 1-Nov. 21 | 15 | 45
Florida (1) | Sept. 1-Nov.9 | 15 | 45
Georgia | Nov. 17-Nov. 25 & Dec. 8-Jan. 27 | 15 15 | 45 45
New Jersey | Sept. 1-Nov. 21 | 10 | 30
New York:
Long Island | Closed |  |
Remainder of State | Sept. 1-Nov. 9 | 8 | 24
North Carolina | Sept. 1-Oct. 13 & Oct. 22-Nov. 28 | 15 15 | 45 45
Pennsylvania | Sept. 1-Nov. 21 | 3 | 9
South Carolina | Oct. 5-Oct. 10 & Nov. 5-Jan. 7 | 15 15 | 45 45
Virginia | Sept. 8-Nov. 16 | 15 | 45
West Virginia | Oct. 1-Oct. 13 & Dec. 1-Jan. 26 | 15 15 | 30 30
MISSISSIPPI FLYWAY
Alabama | Sept. 8-Sept. 23 & Nov. 23-Jan. 15 | 15 15 | 45 45
Arkansas | Sept. 1-Nov. 9 | 15 | 45
Kentucky | Sept. 1-Nov. 9 | 3 | 9
Louisiana | Sept. 15-Sept. 30 & Nov. 10-Jan. 2 | 15 15 | 45 45
Michigan | Sept. 1-Nov. 9 | 1 | 3
Minnesota (2):
North Zone | Sept. 22-Nov. 20 | 15 | 45
Central Zone | Sept. 22-Sept. 30 & Oct. 6-Nov. 25 | 15 15 | 45 45
South Zone | Sept. 22-Sept. 30 & Oct. 13-Dec. 2 | 15 15 | 45 45
Mississippi | Sept. 1-Sept. 30 & Nov. 23-Jan. 1 | 15 15 | 45 45
Ohio | Sept. 1-Nov. 9 | 15 | 45
Tennessee: | Sept. 1-Nov. 9 | 15 | 45
Wisconsin:
North Zone | Sept. 29-Nov. 27 | 15 | 30
South Zone | Sept. 29-Oct. 7 & Oct. 13-Dec. 2 | 15 15 | 30 30
Mississippi River Zone | Sept. 29-Oct. 5 & Oct. 13-Dec. 4 | 15 15 | 30 30
CENTRAL FLYWAY
New Mexico:
Zone 1 | Sept. 15-Nov. 23 | 1 | 3
Zone 2 | Sept. 15-Nov. 23 | 1 | 3
Oklahoma | Sept. 1-Nov. 9 | 15 | 45
Texas | Sept. 15-Sept. 30 & Nov. 3-Dec. 26 | 15 15 | 45 45
PACIFIC FLYWAY
All States | Seasons are in aggregate with coots and listed in paragraph (e).
(1) The season applies to common moorhens only.
(2) In Minnesota, the daily bag limit is 15 and the possession limit is 45 coots and moorhens in the aggregate.

(b) Special Sea Duck Seasons (Scoters, Eiders, and Long-Tailed Ducks in Atlantic Flyway)

Within the special sea duck areas, the daily bag limit is 5 scoters, eiders, and long-tailed ducks in the aggregate, including no more than 4 scoters, 4 eiders, and 4 long-tailed ducks. Possession limits are three times the daily bag limit. These limits may be in addition to regular duck bag limits only during the regular duck season in the special sea duck hunting areas.

| Season dates | Limits: Bag | Limits: Possession
Connecticut | Nov. 12-Jan. 19 | 5 | 15
Delaware | Nov. 19-Jan. 26 | 5 | 15
Georgia | Nov. 17-Nov. 25 & Dec. 8-Jan. 27 | 5 5 | 15 15
Maine | Nov. 12-Jan. 19 | 5 | 15
Maryland | Nov. 3-Jan. 11 | 5 | 15
Massachusetts (1) | Nov. 19-Jan. 26 | 5 | 15
New Hampshire | Nov. 15-Jan. 13 | 5 | 15
New Jersey | Nov. 3-Jan. 11 | 5 | 15
North Carolina | Nov. 19-Jan. 26 | 5 | 15
Rhode Island | Nov. 22-Jan. 20 | 5 | 15
South Carolina | Nov. 17-Nov. 24 & Dec. 8-Jan. 27 | 5 5 | 15 15
Virginia | Nov. 10-Jan. 8 | 5 | 15
Note: Notwithstanding the provisions of this Part 20, the shooting of crippled waterfowl from a motorboat under power will be permitted in Connecticut, Delaware, Georgia, Maine, Maryland, Massachusetts, New Hampshire, New Jersey, New York, North Carolina, Rhode Island, South Carolina, and Virginia in those areas described, delineated, and designated in their respective hunting regulations as special sea duck hunting areas.
(1) In Massachusetts, the daily bag limit may not include more than 1 hen eider. Possession limits are three times the daily bag limit.

(c) Early (September) Duck Seasons.

Note: Unless otherwise specified, the seasons listed below are for teal only.

| Season dates | Limits: Bag | Limits: Possession
|  |  | Bag
ATLANTIC FLYWAY
Delaware (1) | Sept. 12-Sept. 29 | 6 | 18
Florida (2) | Sept. 22-Sept. 30 | 6 | 18
Georgia | Sept. 8-Sept. 23 | 6 | 18
Maryland (1) | Sept. 17-Sept. 29 | 6 | 18
North Carolina (1) | Sept. 12-Sept. 29 | 6 | 18
South Carolina (3) | Sept. 15-Sept. 30 | 6 | 18
Virginia (1) | Sept. 17-Sept. 30 | 6 | 18
MISSISSIPPI FLYWAY
Alabama | Sept. 8-Sept. 23 | 6 | 18
Arkansas (3) | Sept. 15-Sept. 30 | 6 | 18
Illinois (3) | Sept. 8-Sept. 23 | 6 | 18
Indiana (3) | Sept. 8-Sept. 23 | 6 | 18
Iowa (3): | Sept. 1-Sept. 16 | 6 | 18
Kentucky (2) | Sept. 15-Sept. 23 | 6 | 18
Louisiana | Sept. 15-Sept. 30 | 6 | 18
Michigan | Sept. 1-Sept. 16 | 6 | 18
Mississippi | Sept. 15-Sept. 30 | 6 | 18
Missouri (3) | Sept. 8-Sept. 23 | 6 | 18
Ohio (3) | Sept. 1-Sept. 16 | 6 | 18
Tennessee (2) | Sept. 8-Sept. 16 | 6 | 18
Wisconsin | Sept.1-Sept. 7 | 6 | 18
CENTRAL FLYWAY
Colorado (1) | Sept. 8-Sept. 16 | 6 | 18
Kansas:
Low Plains | Sept. 8-Sept. 23 | 6 | 18
High Plains | Sept. 15-Sept. 23 | 6 | 18
Nebraska (1):
Low Plains | Sept. 1-Sept. 16 | 6 | 18
High Plains | Sept. 1-Sept. 9 | 6 | 18
New Mexico | Sept. 15-Sept. 23 | 6 | 18
Oklahoma | Sept. 15-Sept. 30 | 6 | 18
Texas:
High Plains | Sept. 15-Sept. 30 | 6 | 18
Rest of State | Sept. 15-Sept. 30 | 6 | 18
(1) Area restrictions. See State regulations.
(2) In Florida, Kentucky, and Tennessee, the daily bag limit for the first 5 days of the season is 6 wood ducks and teal in the aggregate, of which no more than 2 may be wood ducks. During the last 4 days of the season, the daily bag limit is 6 teal only. The possession limit is three times the daily bag limit.
(3) Shooting hours are from sunrise to sunset.

(d) Special Early Canada Goose Seasons

| Season dates | Limits: Bag | Limits: Possession
ATLANTIC FLYWAY
Connecticut (1):
North Zone | Sept. 1-Sept. 29 | 15 | 45
South Zone | Sept. 15-Sept. 29 | 15 | 45
Delaware | Sept. 1-Sept. 25 | 15 | 45
Florida | Sept. 1-Sept. 30 | 5 | 15
Georgia | Sept. 1-Sept. 30 | 5 | 15
Maine:
Northern Zone | Sept. 1-Sept. 25 | 6 | 18
Southern Zone | Sept. 1-Sept. 25 | 10 | 30
Coastal Zone | Sept. 1-Sept. 25 | 10 | 30
Maryland (1)(2):
Eastern Unit | Sept. 1-Sept. 15 | 8 | 24
Western Unit | Sept. 1-Sept. 25 | 8 | 24
Massachusetts:
Central Zone | Sept. 4-Sept. 21 | 15 | 45
Coastal Zone | Sept. 4-Sept. 21 | 15 | 45
Western Zone | Sept. 4-Sept. 21 | 15 | 45
New Hampshire | Sept. 1-Sept. 25 | 5 | 15
New Jersey (1)(2)(3) | Sept. 1-Sept. 29 | 15 | 45
New York (4):
Lake Champlain Zone | Sept. 1-Sept. 25 | 8 | 24
Northeastern Zone | Sept. 1-Sept. 25 | 15 | 45
East Central Zone | Sept. 1-Sept. 25 | 15 | 45
Hudson Valley Zone | Sept. 1-Sept. 25 | 15 | 45
West Central Zone | Sept. 1-Sept. 25 | 15 | 45
South Zone | Sept. 1-Sept. 25 | 15 | 45
Western Long Island Zone | Closed |  |
Central Long Island Zone | Sept. 4-Sept. 30 | 15 | 45
Eastern Long Island Zone | Sept. 4-Sept. 30 | 15 | 45
North Carolina (5)(6) | Sept. 1-Sept. 29 | 15 | 45
Pennsylvania (7):
SJBP Zone (8) | Sept. 1-Sept. 25 | 1 | 3
Rest of State (9) | Sept. 1-Sept. 25 | 8 | 24
Rhode Island (1) | Sept. 1-Sept. 30 | 15 | 45
South Carolina | Sept. 1-Sept. 30 | 15 | 45
Vermont:
Lake Champlain Zone | Sept. 1-Sept. 25 | 8 | 24
Interior Vermont Zone | Sept. 1-Sept. 25 | 8 | 24
Connecticut River Zone (10) | Sept. 1-Sept. 25 | 5 | 15
Virginia (11) | Sept. 1-Sept. 25 | 10 | 30
West Virginia | Sept. 1-Sept. 8 | 5 | 15
CENTRAL FLYWAY
North Dakota:
Missouri River Zone | Sept. 1-Sept. 7 | 15 | 45
Western ND Canada Goose Zone | Sept. 1-Sept. 15 | 15 | 45
Remainder of State | Sept. 1-Sept. 21 | 15 | 45
Oklahoma | Sept. 15-Sept. 24 | 8 | 24
South Dakota (12) | Sept. 1-Sept. 30 | 8 | 24
Texas
East Zone | Sept. 15-Sept. 30 | 5 | 15
PACIFIC FLYWAY
Colorado | Sept. 1-Sept. 9 | 4 | 12
Idaho
Zone 4 | Sept. 1-Sept. 15 | 5 | 15
Oregon:
Northwest Permit Zone | Sept. 8-Sept. 16 | 5 | 15
Southwest Zone | Sept. 8-Sept. 12 | 5 | 15
Eastern Zone | Sept. 8-Sept. 12 | 5 | 15
Klamath County Zone | Sept. 8-Sept. 12 | 5 | 15
Harney and Lake County Zone | Sept. 8-Sept. 12 | 5 | 15
Malheur County Zone | Sept. 8-Sept. 12 | 5 | 15
Washington:
Areas 1 & 3 | Sept. 8-Sept. 13 | 5 | 15
Areas 2 Inland & 2 Coast (13) | Sept. 1-Sept. 9 | 5 | 15
Area 4 & 5 | Sept. 8-Sept. 9 | 5 | 10
Wyoming:
Teton County Zone | Sept. 1-Sept. 8 | 4 | 12
Balance of State Zone | Sept. 1-Sept. 8 | 4 | 12
(1) Shooting hours are one-half hour before sunrise to one-half hour after sunset.
(2) The use of shotguns capable of holding more than 3 shotshells is allowed.
(3) The use of electronic calls is allowed.
(4) In New York, shooting hours are one-half hour before sunrise to one-half hour after sunset, the use of shotguns capable of holding more than 3 shotshells is allowed, and the use of electronic calls is allowed, except during Youth Waterfowl Hunting Days in Lake Champlain, Northeastern, and Southeastern Goose Hunting Areas. During the designated Youth Waterfolw Hunting Days in these areas, shooting hours are one-half hour before sunrise to sunset, shotguns must be capable of holding no more than 3 shotshells, and electronic calls are not allowed. See State regulations for further details.
(5) In North Carolina, the use of unplugged guns and electronic calls is allowed in that area west of U.S. Highway 17 only.
(6) In North Carolina, shooting hours are one-half hour before sunrise to one-half hour after sunset in that area west of U.S. Highway 17 only.
(7) In Pennsylvania, shooting hours are one-half hour before sunrise to one-half hour after sunset from September 1 to September 14 and September 17 to September 25. On September 15, shooting hours are one-half hour before sunrise to sunset.
(8) In Pennsylvania, in the area south of SR 198 from the Ohio State line to intersection of SR 18, SR 18 south to SR 618, SR 618 south to U.S. Route 6, U.S. Route 6 east to U.S. Route 322/SR 18, U.S. Route 322/SR 18 west to intersection of SR 3013, SR 3013 south to the Crawford/Mercer County line, the season dates are September 1 to September 15. The daily bag limit is 1 goose with a possession limit of 3 geese. The season is closed on State Game Lands 214. However, during youth waterfowl hunting days, regular season regulations apply.
(9) In Pennsylvania, in the area of Lancaster and Lebanon Counties north of the Pennsylvania Turnpike, east of SR 501 to SR 419, south of SR 419 to the Lebanon-Berks County line, west of the Lebanon-Berks County line and the Lancaster-Berks County line to SR 1053, west of SR 1053 to the Pennsylvania Turnpike I-76, the daily bag limit is 1 goose with a possession limit of 3 geese. On State Game Lands No. 46 (Middle Creek Wildlife Management Area), the season is closed. However, during youth waterfowl hunting days, regular season regulations apply.
(10) In Vermont, the season in the Connecticut River Zone is the same as the New Hampshire Inland Zone season, set by New Hampshire.
(11) In Virginia, shooting hours are one-half hour before sunrise to one-half hour after sunset from September 1 to September 16 in the area east of I-95. Shooting hours are one-half hour before sunrise to one-half hour after sunset from September 1 to September 20 in the area west of I-95.
(12) See State regulations for additional information and restrictions.
(13) In Washington, in Pacific County, the daily bag and possession limits are 15 and 45 Canada geese, respectively.

(e) Waterfowl, Coots, and Pacific-Flyway Seasons for Common Moorhens

Definitions

The Atlantic Flyway: Includes Connecticut, Delaware, Florida, Georgia, Maine, Maryland, Massachusetts, New Hampshire, New Jersey, New York, North Carolina, Pennsylvania, Rhode Island, South Carolina, Vermont, Virginia, and West Virginia.

The Mississippi Flyway: Includes Alabama, Arkansas, Illinois, Indiana, Iowa, Kentucky, Louisiana, Michigan, Minnesota, Mississippi, Missouri, Ohio, Tennessee, and Wisconsin.

The Central Flyway: Includes Colorado (east of the Continental Divide), Kansas, Montana (Blaine, Carbon, Fergus, Judith Basin, Stillwater, Sweetgrass, Wheatland, and all counties east thereof), Nebraska, New Mexico (east of the Continental Divide except that the Jicarilla Apache Indian Reservation is in the Pacific Flyway), North Dakota, Oklahoma, South Dakota, Texas, and Wyoming (east of the Continental Divide).

The Pacific Flyway: Includes the States of Arizona, California, Colorado (west of the Continental Divide), Idaho, Montana (including and to the west of Hill, Chouteau, Cascade, Meagher, and Park Counties), Nevada, New Mexico (the Jicarilla Apache Indian Reservation and west of the Continental Divide), Oregon, Utah, Washington, and Wyoming (west of the Continental Divide including the Great Divide Basin).

Light Geese: Includes lesser snow (including blue) geese, greater snow geese, and Ross's geese.

Dark Geese: Includes Canada geese, white-fronted geese, emperor geese, brant (except in California, Oregon, Washington, and the Atlantic Flyway), and all other geese except light geese.

Atlantic Flyway

Flyway-Wide Restrictions

Duck Limits: The daily bag limit of 6 ducks may include no more than 4 mallards (2 female mallards), 2 scaup, 2 black ducks, 2 pintails, 2 canvasbacks, 1 mottled duck, 3 wood ducks, 2 redheads, 4 scoters, 4 eiders, 4 long-tailed ducks, and 1 fulvous tree duck. The possession limit is three times the daily bag limit.

Harlequin Ducks: All areas of the Flyway are closed to harlequin duck hunting.

Merganser Limits: The daily bag limit is 5 mergansers and may include no more than 2 hooded mergansers. In States that include mergansers in the duck bag limit, the daily limit is the same as the duck bag limit, of which only 2 may be hooded mergansers. The possession limit is three times the daily bag limit.

| Season dates | Limits: Bag | Limits: Possession
Connecticut:
Ducks and Mergansers |  | 6 | 18
North Zone | Oct. 6-Oct. 13 & Nov. 10-Jan. 10 |  |
South Zone | Oct. 13-Oct. 17 & Nov. 16-Jan. 19 |  |
Coots | Same as for Ducks | 15 | 45
Canada Geese:
AFRP Unit North | Oct. 6-Oct. 13 & Nov. 10-Dec. 1 & Dec. 15-Feb. 15 | 5 5 5 | 15 15 15
AFRP Unit South | Oct. 6-Oct. 13 & Nov. 10-Dec. 1 & Dec. 15-Feb. 15 | 5 5 5 | 15 15 15
NAP H-Unit North | Oct. 13-Oct. 20 & Nov. 10-Jan. 10 | 2 2 | 6 6
NAP H-Unit South | Oct. 13-Oct. 20 & Nov. 10-Jan. 10 | 2 2 | 6 6
AP Unit | Oct. 13-Oct. 20 & Nov. 24-Jan. 12 | 3 3 | 9 9
Special Season | Jan. 15-Feb. 15 | 5 | 15
Light Geese:
North Zone | Oct. 1-Jan. 14 & Feb. 21-Mar. 9 | 25 25 |
South Zone | Oct. 1-Dec. 1 & Feb. 21-Mar. 9 | 25 25 |
Brant:
North Zone | Nov. 2-Jan. 10 | 2 | 6
South Zone | Nov. 12-Jan. 19 | 2 | 6
Delaware:
Ducks | Oct. 26-Nov. 6 & Nov. 19-Nov. 24 & Dec. 7-Jan. 26 | 6 6 6 | 18 18 18
Mergansers | Same as for Ducks | 5 | 15
Coots | Same as for Ducks | 15 | 45
Canada Geese | Nov. 19-Nov. 24 & Dec. 14-Feb. 2 | 2 2 | 6 6
Light Geese (1) | Oct. 3-Feb. 2 & Feb. 9 only | 25 25 |
Brant | Nov. 19-Nov. 24 & Dec. 1-Jan. 31 | 2 2 | 6 6
Florida:
Ducks | Nov. 17-Nov. 25 & Dec. 8-Jan. 27 | 6 6 | 18 18
Mergansers | Same as for Ducks | 5 | 15
Coots | Same as for Ducks | 15 | 45
Canada Geese | Nov. 17-Nov. 25 & Dec. 1-Jan. 30 | 5 5 | 15 15
Light Geese | Same as for Ducks | 15 |
Georgia:
Ducks | Nov. 17-Nov. 25 & Dec. 8-Jan. 27 | 6 6 | 18 18
Mergansers | Same as for Ducks | 5 | 15
Coots | Same as for Ducks | 15 | 45
Canada Geese | Oct. 13-Oct. 27 & Nov. 17-Nov. 25 & Dec. 8-Jan. 27 | 5 5 5 | 15 15 15
Light Geese | Oct. 13-Oct. 28 & Nov. 17-Nov. 25 & Dec. 8-Jan. 27 | 5 5 5 | 15 15 15
Brant | Closed |  |
Maine:
Ducks: (2) |  | 6 | 18
North Zone | Sept. 24-Dec. 1 |  |
South Zone | Oct. 1-Oct. 13 & Nov. 1-Dec. 26 |  |
Coastal Zone | Oct. 1-Oct. 13 & Nov. 12-Jan. 5 |  |
Mergansers | Same as for Ducks | 5 | 15
Coots | Same as for Ducks | 5 | 15
Canada Geese:
North Zone | Oct. 1-Dec. 8 | 2 | 6
South Zone | Oct. 1-Oct. 13 & Nov. 1-Dec. 26 | 2 2 | 6 6
Coastal Zone | Oct. 1-Oct. 13 & Nov. 12-Jan. 5 | 2 2 | 6 6
Light Geese | Oct. 1-Jan. 31 | 25 |
Brant:
North Zone | Sept. 24-Dec. 1 | 2 | 6
South Zone | Oct. 1-Oct. 13 & Nov. 1-Dec. 26 | 2 2 | 6 6
Coastal Zone | Oct. 1-Oct. 13 & Nov. 12-Jan. 5 | 2 2 | 6 6
Maryland:
Ducks and Mergansers (3) | Oct. 13-Oct. 20 & Nov. 10-Nov. 23 & Dec. 11-Jan. 26 | 6 6 6 | 18 18 18
Coots | Same as for Ducks | 15 | 45
Canada Geese:
RP Zone | Nov. 17-Nov. 23 & Dec. 14-Mar. 9 | 5 5 | 15 15
AP Zone | Nov. 17-Nov. 23 & Dec. 14-Feb. 2 | 2 2 | 6 6
Light Geese | Oct. 1-Nov. 23 & Dec. 10-Feb. 2 Feb. 9 only | 25 25 25 |
Brant | Nov. 8-Nov. 23 & Dec. 10-Jan. 31 | 2 2 | 6 6
Massachusetts:
Ducks: (4) |  | 6 | 18
Western Zone | Oct. 8-Nov. 24 & Dec. 3-Dec. 22 |  |
Central Zone | Oct. 9-Nov. 24 & Dec. 11-Jan. 1 |  |
Coastal Zone | Oct. 12-Oct. 20 & Nov. 12-Jan. 10 |  |
Mergansers | Same as for Ducks | 5 | 15
Coots | Same as for Ducks | 15 | 45
Canada Geese:
NAP Zone:
Central Zone | Oct. 9-Nov. 24 & Dec. 11-Jan. 1 | 2 2 | 6 6
(Special season) | Jan. 15-Feb. 15 | 5 | 15
Coastal Zone | Oct. 12-Oct. 20 & Nov. 12-Jan. 10 | 2 2 | 6 6
(Special season) (5) | Jan. 15-Feb. 15 | 5 | 15
AP Zone | Oct. 10-Nov. 24 & Dec. 3-Dec. 13 | 3 3 | 9 9
Light Geese:
Western Zone | Oct. 10-Nov. 24 & Dec. 3-Dec. 22 | 15 15 | 45 45
Central Zone | Oct. 9-Nov. 24 & Dec. 11-Jan. 1 & Jan. 15-Feb. 15 | 15 15 15 | 45 45 45
Coastal Zone (5) | Oct. 12-Oct. 20 & Nov. 12-Jan. 10 & Jan. 15-Feb. 15 | 15 15 15 | 45 45 45
Brant:
Western & Central Zone | Closed |  |
Coastal Zone | Nov. 19-Jan. 26 | 2 | 6
New Hampshire:
Ducks |  | 6 | 18
Northern Zone | Oct. 2-Nov. 30 |  |
Inland Zone | Oct. 2-Nov. 4 & Nov. 21-Dec. 16 |  |
Coastal Zone | Oct. 3-Oct. 14 & Nov. 21-Jan. 7 |  |
Mergansers | Same as for Ducks | 5 | 15
Coots | Same as for Ducks | 15 | 45
Canada Geese:
Northern Zone | Oct. 2-Nov. 30 | 2 | 6
Inland Zone | Oct. 2-Nov. 4 & Nov. 21-Dec. 16 | 2 2 | 6 6
Coastal Zone | Oct. 3-Oct. 14 & Nov. 21-Jan. 7 | 2 2 | 6 6
Light Geese:
Northern Zone | Oct. 2-Nov. 30 | 25 |
Inland Zone | Oct. 2-Dec. 16 | 25 |
Coastal Zone | Oct. 3-Jan. 7 | 25 |
Brant:
Northern Zone | Oct. 2-Nov. 30 | 2 | 6
Inland Zone | Oct. 2-Nov. 4 & Nov. 21-Dec. 16 | 2 2 | 6 6
Coastal Zone | Oct. 3-Oct. 14 & Nov. 21-Jan. 7 | 2 2 | 6 6
New Jersey:
Ducks |  | 6 | 18
North Zone | Oct. 13-Oct. 20 & Nov. 10-Jan. 10 |  |
South Zone | Oct. 20-Oct. 27 & Nov. 17-Jan. 17 |  |
Coastal Zone | Nov. 10-Nov. 13 & Nov. 22-Jan. 26 |  |
Mergansers | Same as for Ducks | 5 | 15
Coots | Same as for Ducks | 15 | 45
Canada and White-fronted Geese:
North Zone | Nov. 10-Nov. 24 & Dec. 8-Jan. 19 | 3 3 | 9 9
South Zone | Nov. 17-Dec. 1 & Dec. 8-Jan. 19 | 3 3 | 9 9
Coastal Zone | Nov. 10-Nov. 13 & Nov. 19-Feb. 15 | 5 5 | 15 15
Special Season Zone | Jan. 21-Feb. 15 | 5 | 15
Light Geese:
North Zone | Oct. 17-Feb. 15 | 25 |
South Zone | Oct. 17-Feb. 15 | 25 |
Coastal Zone | Oct. 17-Feb. 15 | 25 |
Brant:
North Zone | Oct. 13-Oct. 20 & Nov. 10-Jan. 10 | 2 2 | 6 6
South Zone | Oct. 20-Oct. 27 & Nov. 17-Jan. 17 | 2 2 | 6 6
Coastal Zone | Nov. 10-Nov. 13 & Nov. 22-Jan. 26 | 2 2 | 6 6
New York:
Ducks and Mergansers |  | 6 | 18
Long Island Zone | Nov. 22-Nov. 23 & Dec. 1-Jan. 27 |  |
Lake Champlain Zone | Oct. 13-Oct. 21 & Nov. 10-Dec. 30 |  |
Northeastern Zone | Oct. 6-Oct. 28 & Nov. 3-Dec. 9 |  |
Southeastern Zone | Oct. 6-Oct. 14 & Nov. 10-Dec. 30 |  |
Western Zone | Oct. 27-Dec. 8 & Dec. 26-Jan. 11 |  |
Coots | Same as for Ducks | 15 | 45
Canada Geese:
Western Long Island (AFRP) | Oct. 13-Oct. 28 & Nov. 22-Nov. 23 & Dec. 1-Feb. 25 | 8 8 8 | 24 24 24
Central Long Island (NAP-L) | Nov. 22-Nov. 23 & Dec. 5-Feb. 10 | 3 3 | 9 9
Eastern Long Island (NAP-H) | Nov. 22-Nov. 23 & Dec. 5-Jan. 31 | 2 2 | 6 6
Lake Champlain (AP) Zone | Oct. 13-Dec. 1 | 3 | 9
Northeast (AP) Zone | Oct. 27-Dec. 9 & Dec. 26-Dec. 31 | 3 3 | 9 9
East Central (AP) Zone | Oct. 27-Nov. 16 & Nov. 24-Dec. 22 | 3 3 | 9 9
Hudson Valley (AP) Zone | Oct. 27-Nov. 11 & Dec. 4-Jan. 6 | 3 3 | 9 9
West Central (AP) Zone | Oct. 27-Nov. 26 & Dec. 26-Jan. 13 | 3 3 | 9 9
South (AFRP) | Oct. 27-Nov. 14 & Nov. 24-Jan. 13 & Mar. 1-Mar. 10 | 5 5 5 | 15 15 15
Light Geese: (6)
Long Island Zone | Nov. 22-Mar. 8 | 25 |
Lake Champlain Zone | Oct. 1-Dec. 31 | 25 |
Northeastern Zone | Oct. 1-Jan. 15 | 25 |
Southeastern Zone | Oct. 1-Jan. 15 | 25 |
Western Zone | Oct. 1-Jan. 15 | 25 |
Brant:
Long Island Zone | Nov. 22-Nov. 23 & Dec. 1-Jan. 27 | 2 2 | 6 6
Lake Champlain Zone | Oct. 6-Dec. 4 | 2 | 6
Northeastern Zone | Oct. 6-Dec. 4 | 2 | 6
Southeastern Zone | Oct. 6-Dec. 4 | 2 | 6
Western Zone | Oct. 6-Dec. 4 | 2 | 6
North Carolina:
Ducks (7) | Oct. 3-Oct. 6 & Nov. 10-Dec. 1 & Dec. 15-Jan. 26 | 6 6 6 | 18 18 18
Mergansers | Same as for Ducks | 5 | 15
Coots | Same as for Ducks | 15 | 45
Canada Geese:
RP Hunt Zone | Oct. 3-Oct. 13 & Nov. 10-Dec. 1 & Dec. 15-Feb. 9 | 5 5 5 | 15 15 15
Northeast Hunt Zone (8) | Jan. 11-Jan. 26 | 1 | 3
Light Geese | Oct. 9-Feb. 9 | 25 |
Brant | Dec. 15-Jan. 26 | 1 | 3
Pennsylvania:
Ducks: |  | 6 | 18
North Zone | Oct. 6-Nov. 17 & Dec. 18-Jan. 12 |  |
South Zone | Oct. 13-Oct. 20 & Nov. 20-Jan. 19 |  |
Northwest Zone | Oct. 6-Dec. 8 Dec. 27-Jan. 1 |  |
Lake Erie Zone | Oct. 29-Jan. 5 |  |
Mergansers | Same as for Ducks | 5 | 15
Coots | Same as for Ducks | 15 | 45
Canada Geese:
Eastern (AP) Zone | Nov. 15-Nov. 24 & Dec. 15-Jan. 31 | 3 3 | 9 9
SJBP Zone | Oct. 6-Nov. 24 & Dec. 11-Jan. 19 | 3 3 | 9 9
Resident (RP) Zone | Oct. 27-Nov. 24 & Dec. 17-Jan. 19 & Jan. 26-Feb. 23 | 5 5 5 | 15 15 15
Light Geese:
Eastern (AP) Zone | Oct. 1-Jan. 31 | 25 |
SJBP Zone | Oct. 1-Jan. 19 | 25 |
Resident (RP) Zone | Oct. 23-Feb. 23 | 25 |
Brant | Oct. 13-Dec. 21 | 2 | 6
Rhode Island:
Ducks | Oct. 12-Oct. 15 & Nov. 21-Nov. 25 & Dec. 1-Jan. 20 | 6 6 6 | 18 18 18
Mergansers | Same as for Ducks | 5 | 15
Coots | Same as for Ducks | 15 | 45
Canada Geese | Nov. 17-Nov. 25 & Dec. 1-Jan. 20 | 2 2 | 6 6
Special season | Jan. 26-Feb. 9 | 5 | 15
Light Geese | Oct. 6-Jan. 20 | 25 |
Brant | Nov. 22-Jan. 20 | 2 | 6
South Carolina:
Ducks (9) (10) | Nov. 10 & Nov. 17-Nov. 24 & Dec. 8-Jan. 27 | 6 6 6 | 18 18 18
Mergansers (11) | Same as for Ducks | 5 | 15
Coots | Same as for Ducks | 15 | 45
Canada and White-fronted Geese (12) (13) | Nov. 17-Nov. 24 & Dec. 8-Jan. 27 & Feb. 13-Feb. 28 | 5 5 5 | 15 15 15
Light Geese | Nov. 17-Nov. 24 & Dec. 8-Jan. 27 & Feb. 13-Feb. 28 | 25 25 25 |
Brant | Nov. 17-Nov. 24 & Dec. 8-Jan. 27 | 2 2 | 6 6
Vermont:
Ducks |  | 6 | 18
Lake Champlain Zone | Oct. 13-Oct 21 & Nov. 10-Dec. 30 |  |
Interior Zone | Oct. 13-Dec. 11 |  |
Connecticut River Zone | Oct. 2-Nov. 4 & Nov. 21-Dec. 16 |  |
Mergansers | Same as for Ducks | 5 | 15
Coots | Same as for Ducks | 15 | 45
Canada Geese:
Lake Champlain Zone | Oct. 13-Dec. 1 | 3 | 9
Interior Zone | Oct. 13-Dec 1 | 3 | 9
Connecticut River Zone | Oct. 2-Nov. 4 & Nov. 21-Dec. 16 | 2 2 | 6 6
Light Geese:
Lake Champlain Zone | Oct. 1-Dec. 31 & Feb. 26-Mar. 10 | 25 25 |
Interior Zone | Oct. 1-Dec. 31 & Feb. 26-Mar. 10 | 25 25 |
Connecticut River Zone | Oct. 2-Dec. 16 | 25 |
Brant:
Lake Champlain Zone | Oct. 6-Dec. 4 | 2 | 6
Interior Zone | Oct. 6-Dec. 4 | 2 | 6
Connecticut River Zone | Oct. 2-Nov. 4 & Nov. 21-Dec. 16 | 2 2 | 6 6
Virginia:
Ducks (14) | Oct. 5-Oct. 8 & Nov. 21-Dec. 2 & Dec. 15-Jan. 27 | 6 6 6 | 18 18 18
Mergansers | Same as for Ducks | 5 | 15
Coots | Same as for Ducks | 15 | 45
Canada Geese:
Eastern (AP) Zone | Nov. 21-Dec. 2 & Dec. 21-Jan. 27 | 2 2 | 6 6
Western (SJBP) Zone | Nov. 21-Dec. 2 & Dec. 18-Jan. 14 & | 3 3 | 9 9
(Special season) | Jan. 15-Feb. 15 | 5 | 15
Western (RP) Zone | Nov. 21-Dec. 2 & Dec. 15-Feb. 20 | 5 5 | 15 15
Light Geese | Oct. 17-Jan. 31 | 25 |
Brant | Nov. 21-Dec. 2 & Dec. 15-Jan. 31 | 2 2 | 6 6
West Virginia:
Ducks (15) | Oct. 1-Oct. 13 & Nov. 5-Nov. 10 & Dec. 17-Jan. 26 | 6 6 6 | 18 18 18
Mergansers | Same as for Ducks | 5 | 15
Coots | Same as for Ducks | 15 | 30
Canada Geese | Oct. 1-Oct. 20 & Nov. 5-Nov. 10 & Dec. 4-Jan. 26 | 5 5 5 | 15 15 15
Light Geese | Oct. 1-Oct. 20 & Nov. 5-Nov. 10 & Dec. 4-Jan. 26 | 5 5 5 | 15 15 15
Brant | Nov. 28-Jan. 26 | 1 | 3
(1) In Delaware, the Bombay Hook National Wildlife Refuge (NWR) snow goose season is open Mondays, Wednesdays, and Fridays only.
(2) In Maine, the daily bag limit may include no more than 4 of any species, with no more than 12 of any one species in possession. The season for Barrow's goldeneye is closed.
(3) In Maryland, the black duck season is closed October 13 through October 20. Additionally, the daily bag limit of 6 ducks may include no more than 5 sea ducks, of which no more than 4 may be scoters, eiders, or long-tailed ducks.
(4) In Massachusetts, the daily bag limit may include no more than 4 of any single species in addition to the flyway-wide bag restrictions.
(5) In Massachusetts, the January 15 to February 15 portion of the season in the Coastal Zone is restricted to that portion of the Coastal Zone north of the Cape Cod Canal.
(6) In New York, the use of electronic calls and shotguns capable of holding more than 3 shotshells are allowed for hunting of light geese on any day when all other waterfowl hunting seasons are closed.
(7) In North Carolina, the season is closed for black ducks October 3 through October 6 and November 10 through November 16.
(8) In North Carolina, a permit is required to hunt Canada geese in the Northeast Hunt Zone.
(9) In South Carolina, the daily bag limit of 6 may not exceed 1 black-bellied whistling duck or hooded merganser in the aggregate. Further, the black duck/mottled duck limit is as follows: (1) For areas east and south of Interstate 95, either 1 black or 1 mottled duck in the daily bag in the aggregate; (2) for areas west and north of Interstate 95, either 2 black ducks, or 1 black duck and 1 mottled duck in the daily bag.
(10) In South Carolina, on November 10, only hunters 17 years of age or younger can hunt ducks, coots, and mergansers. The youth must be accompanied by a person at least 21 years of age who is properly licensed, including State and Federal waterfowl stamps. Youth who are 16 or 17 years of age who hunt on this day are not required to have a State license or State waterfowl stamp but must possess a Federal waterfowl stamp and migratory bird permit.
(11) In South Carolina, the daily bag limit for mergansers may include no more than 1 hooded merganser.
(12) In South Carolina, the daily bag limit may include no more than 2 white-fronted geese.
(13) In South Carolina, the hunting area for Canada geese excludes that portion of Clarendon County bounded to the north by S-14-25; to the east by Hwy 260; and to the south by the markers delineating the channel of the Santee River. It also excludes that portion of Clarendon County bounded on the north by S-14-26 and extending southward to that portion of Orangeburg County bordered by Hwy 6.
(14) In Virginia, the season is closed for black ducks October 5 through October 8.
(15) In West Virginia, the season is closed for eiders, whistling ducks, and mottled ducks.

Mississippi Flyway

Flyway-Wide Restrictions

Duck Limits: The daily bag limit of 6 ducks may include no more than 4 mallards (no more than 2 of which may be females), 1 mottled duck, 2 black ducks, 2 pintails, 2 canvasbacks, 2 redheads, 3 scaup, and 3 wood ducks. The possession limit is three times the daily bag limit.

Merganser Limits: The daily bag limit is 5 mergansers and may include no more than 2 hooded mergansers. In States that include mergansers in the duck bag limit, the daily limit is the same as the duck bag limit, of which only 2 may be hooded mergansers. The possession limit is three times the daily bag limit.

| Season dates | Limits: Bag | Limits: Possession
Alabama:
Ducks |  | 6 | 18
North Zone | Nov. 23-Nov. 24 & Dec. 1-Jan. 27 |  |
South Zone | Same as North Zone |  |
Mergansers | Same as for Ducks | 5 | 15
Coots | Same as for Ducks | 15 | 45
Dark Geese (1)(2) | Sept. 1-Sept 30 & Oct. 13-Oct. 27 & Nov. 23-Nov. 24 & Dec. 1-Jan. 27 | 5 5 5 5 | 15 15 15 15
Light Geese | Same as for Dark Geese | 5 | 15
Arkansas:
Ducks | Nov. 17-Nov. 25 & Dec. 6-Dec. 23 & Dec. 26-Jan. 27 | 6 6 6 | 18 18 18
Mergansers | Same as for Ducks | 5 | 10
Coots | Same as for Ducks | 5 | 10
Canada Geese | Sept. 1-Sept. 30 & Oct. 27-Oct. 29 & Nov. 17-Nov. 30 & Dec. 2-Jan. 27 | 5 3 3 3 | 15 9 9 9
White-fronted Geese | Oct. 27-Oct. 29 & Nov. 17-Nov. 30 & Dec. 2-Jan. 27 | 2 2 2 | 4 4 4
Brant | Closed |  |
Light Geese | Same as for White-fronted Geese | 20 |
Illinois:
Ducks |  | 6 | 18
North Zone | Oct. 20-Dec. 18 |  |
Central Zone | Oct. 27-Dec. 25 |  |
South Central Zone | Nov. 10-Jan. 8 |  |
South Zone | Nov. 22-Jan. 20 |  |
Mergansers | Same as for Ducks | 5 | 15
Coots | Same as for Ducks | 15 | 45
Canada Geese:
North Zone | Sept. 1-Sept. 15 & Oct. 20-Jan. 17 | 5 2 | 15 6
Central Zone | Sept. 1-Sept. 15 & Oct. 27-Nov. 4 & Nov. 12-Jan. 31 | 5 2 2 | 15 6 6
South Central Zone | Sept. 1-Sept. 15 & Nov. 10-Jan. 31 | 2 2 | 6 6
South Zone | Sept. 1-Sept. 15 & Nov. 22-Jan. 31 | 2 2 | 6 6
White-fronted Geese:
North Zone | Oct. 22-Jan. 17 | 2 | 6
Central Zone | Nov. 5-Jan. 31 | 2 | 6
South Central Zone | Nov. 10-Jan. 31 | 2 | 6
South Zone | Nov. 22-Jan. 31 | 2 | 6
Light Geese:
North Zone | Oct. 20-Jan. 17 | 20 |
Central Zone | Oct. 27-Jan. 31 | 20 |
South Central Zone | Nov. 10-Jan. 31 | 20 |
South Zone | Nov. 22-Jan. 31 | 20 |
Brant | Same as for Light Geese | 1 | 3
Indiana:
Ducks |  | 6 | 18
North Zone | Oct. 20-Dec. 9 & Dec. 22-Dec. 30 |  |
Central Zone | Oct. 27-Nov. 4 & Nov. 24-Jan. 13 |  |
South Zone | Nov. 3-Nov. 11 & Dec. 1-Jan. 20 |  |
Mergansers | Same as for Ducks | 5 | 15
Coots | Same as for Ducks | 15 | 45
Dark Geese (1)(3):
North Zone | Sept. 8-Sept. 16 & Oct. 20-Nov. 25 & Dec. 15-Feb. 10 | 5 5 5 | 15 15 15
Central Zone | Sept. 8-Sept. 16 & Oct. 27-Nov. 11 & Nov. 24-Feb. 10 | 5 5 5 | 15 15 15
South Zone | Sept. 8-Sept. 16 & Nov. 3-Nov. 25 & Dec. 1-Feb. 10 | 5 5 5 | 15 15 15
Light Geese:
North Zone | Same as for Dark Geese | 20 |
Central Zone | Same as for Dark Geese | 20 |
South Zone | Same as for Dark Geese | 20 |
Iowa:
Ducks |  | 6 | 18
North Zone | Sept. 29-Oct. 5 & Oct. 13-Dec. 4 |  |
Missouri River Zone | Oct. 13-Oct. 19 & Oct. 27-Dec 18 |  |
South Zone | Oct. 6-Oct. 12 & Oct. 20-Dec 11 |  |
Mergansers | Same as for Ducks | 5 | 15
Coots | Same as for Ducks | 15 | 45
Dark Geese (1):
Cedar Falls/Waterloo | Sept. 1-Sept. 9 | 5 | 15
Des Moines | Sept. 1-Sept. 9 | 5 | 15
Cedar Rapids/Iowa City | Sept. 1-Sept. 9 | 5 | 15
North Zone (4) | Sept. 22-Oct. 7 & Oct. 13-Dec. 4 & Dec. 15-Jan. 12 | 5 5 5 | 15 15 15
Missouri River Zone (4) | Oct. 6-Oct. 21 & Oct. 27-Dec. 18 & Dec. 29-Jan. 26 | 5 5 5 | 15 15 15
South Zone (4) | Sept. 29-Oct. 14 & Oct. 20-Dec. 11 & Dec. 22-Jan. 19 | 5 5 5 | 15 15 15
Light Geese:
North Zone | Same as for Dark Geese | 20 |
Missouri River Zone | Same as for Dark Geese | 20 |
South Zone | Same as for Dark Geese | 20 |
Kentucky:
Ducks |  | 6 | 18
West Zone | Nov. 22-Nov. 25 & Dec. 2-Jan. 27 |  |
East Zone | Same as West Zone |  |
Mergansers | Same as for Ducks | 5 | 15
Coots | Same as for Ducks | 15 | 45
Canada Geese | Sept. 16-Sept. 30 & Nov. 22-Feb. 15 | 5 3 | 15 9
White-fronted Geese | Nov. 22-Feb. 15 | 2 | 6
Brant | Nov. 22-Feb. 15 | 1 | 3
Light Geese | Nov. 22-Feb. 15 | 20 | 60
Louisiana:
Ducks |  | 6 | 18
West Zone | Nov. 10-Dec. 2 & Dec. 15-Jan. 20 |  |
East Zone (including Catahoula Lake) | Nov. 17-Dec. 2 & Dec. 15-Jan. 27 |  |
Coastal Zone | Nov. 10-Dec. 2 & Dec. 15-Jan. 20 |  |
Mergansers | Same as for Ducks | 5 | 15
Coots | Same as for Ducks | 15 | 45
Canada Geese | Nov. 3-Dec. 2 & Dec. 15-Jan. 31 | 3 3 | 9 9
White-fronted Geese | Nov. 3-Dec. 2 & Dec. 15-Feb. 10 | 2 2 | 6 6
Brant | Closed |  |
Light Geese | Same as for White-fronted Geese | 20 |
Michigan:
Ducks |  | 6 | 18
North Zone | Sept. 29-Nov. 25 & Dec. 1-Dec. 2 |  |
Middle Zone | Oct. 6-Dec. 2 & Dec. 15-Dec. 16 |  |
South Zone | Oct. 13-Dec. 9 & Dec. 29-Dec. 30 |  |
Mergansers | Same as for Ducks | 5 | 15
Coots | Same as for Ducks | 15 | 45
Dark Geese (1)(2):
North Zone | Sept. 1-Dec. 16 | 5 | 15
Middle Zone | Sept. 1-Sept. 30 & Oct. 6-Dec. 21 | 5 5 | 15 15
South Zone:
Muskegon Wastewater GMU | Oct. 16-Nov. 13 & Dec. 1-Dec. 22 | 5 5 | 15 15
Allegan County GMU | Sept. 1-Sept. 16 & Nov. 3-Nov. 13 & Nov. 22-Dec. 9 & Dec. 15-Feb. 14 | 5 5 5 5 | 15 15 15 15
Remainder of South Zone | Sept. 1-Sept. 30 & Oct. 13-Dec. 9 & Dec. 29-Dec. 30 & Jan. 26-Feb. 11 | 5 5 5 5 | 15 15 15 15
Light Geese:
North Zone | Same as for Dark Geese | 20 |
Middle Zone | Same as for Dark Geese | 20 |
South Zone:
Muskegon Wastewater GMU | Same as for Dark Geese | 20 |
Allegan County GMU | Same as for Dark Geese | 20 |
Remainder of South Zone | Same as for Dark Geese | 20 |
Minnesota:
Ducks |  | 6 | 18
North Zone | Sept. 22-Nov. 20 |  |
Central Zone | Sept. 22-Sept. 30 & Oct. 6-Nov. 25 |  |
South Zone | Sept. 22-Sept. 30 & Oct. 13-Dec. 2 |  |
Mergansers | Same as for Ducks | 5 | 15
Coots (5) | Same as for Ducks | 15 | 45
Dark Geese (1):
North Zone | Sept. 1-Sept. 16 & Sept. 22-Dec. 21 | 5 3 | 15 9
Central Zone | Sept. 1-Sept. 16 & Sept. 22-Sept. 30 & Oct. 6-Dec. 26 | 5 3 3 | 15 9 9
South Zone | Sept. 1-Sept. 16 & Sept. 22-Sept. 30 & Oct. 13-Jan. 2 | 5 3 3 | 15 9 9
Light Geese:
North Zone | Same as for Dark Geese | 20 | 60
Central Zone | Same as for Dark Geese | 20 | 60
South Zone | Same as for Dark Geese | 20 | 60
Mississippi:
Ducks | Nov. 23-Nov. 25 & Nov. 30-Dec. 2 & Dec. 5-Jan. 27 | 6 6 6 | 18 18 18
Mergansers | Same as for Ducks | 5 | 15
Coots | Same as for Ducks | 15 | 45
Canada Geese | Sept. 1-Sept 30 & Nov. 9-Nov. 25 & Nov. 30-Dec. 2 & Dec. 5-Jan. 27 | 5 3 3 3 | 15 9 9 9
White-fronted Geese | Nov. 9-Nov. 25 & Nov. 30-Dec. 2 & Dec. 5-Jan. 27 | 3 3 3 | 9 9 9
Brant | Same as for White-fronted Geese | 1 | 3
Light Geese | Same as for White-fronted Geese | 20 |
Missouri:
Ducks and Mergansers |  | 6 | 18
North Zone | Nov. 3-Jan. 1 |  |
Middle Zone | Nov. 3-Nov. 9 & Nov. 15-Jan. 6 |  |
South Zone | Nov. 22-Nov. 25 & Dec. 3-Jan. 27 |  |
Coots | Same as for Ducks | 15 | 45
Canada Geese and Brant
North Zone | Oct. 6-Oct. 14 & Nov. 11-Feb. 6 | 3 3 | 9 9
Middle Zone | Same as North Zone | 3 | 9
South Zone | Same as North Zone | 3 | 9
White-fronted Geese:
North Zone | Nov. 11-Feb. 6 | 2 | 6
Middle Zone | Same as North Zone | 2 | 6
South Zone | Same as North Zone | 2 | 6
Light Geese:
North Zone | Nov. 11-Feb. 6 | 20 |
Middle Zone | Same as North Zone | 20 |
South Zone | Same as North Zone | 20 |
Ohio:
Ducks (6) |  | 6 | 18
Lake Erie Marsh Zone | Oct. 13-Oct. 28 & Nov. 10-Dec. 23 |  |
North Zone | Oct. 20-Nov. 4 & Nov. 17-Dec. 30 |  |
South Zone | Oct. 20-Nov. 4 & Dec. 15-Jan. 27 |  |
Mergansers | Same as for Ducks | 5 | 15
Coots | Same as for Ducks | 15 | 45
Dark Geese (1)(7):
Lake Erie Goose Zone | Sept. 1-Sept. 9 & Oct. 13-Oct. 28 & Nov. 10-Dec. 23 & Jan. 5-Feb. 9 | 5 3 3 3 | 15 9 9 9
North Zone | Sept. 1-Sept. 9 & Oct. 20-Nov. 4 & Nov. 17-Dec. 30 & Jan. 5-Feb. 9 | 5 3 3 3 | 15 9 9 9
South Zone | Sept. 1-Sept. 9 & Oct. 20-Nov. 4 & Nov. 22-Feb. 9 | 5 3 3 | 15 9 9
Light Geese:
Lake Erie Goose Zone | Oct. 13-Oct. 28 & Nov. 10-Dec. 23 & Jan. 5-Feb. 9 | 10 10 10 | 30 30 30
North Zone | Oct. 20-Nov. 4 & Nov. 17-Dec. 30 & Jan. 5-Feb. 9 | 10 10 10 | 30 30 30
South Zone | Oct. 20-Nov. 4 & Nov. 22-Feb. 9 | 10 10 | 30 30
Tennessee:
Ducks |  | 6 | 18
Reelfoot Zone | Nov. 10-Nov. 11 & Dec. 1-Jan. 27 |  |
Rest of State | Nov. 24-Nov. 25 & Dec. 1-Jan. 27 |  |
Mergansers | Same as for Ducks | 5 | 15
Coots | Same as for Ducks | 15 | 45
Canada Geese:
Northwest Zone | Sept. 1-Sept. 16 & Oct. 13-Oct. 23 & Nov. 10-Nov. 11 & Dec. 1-Feb. 10 | 5 3 3 3 | 15 9 9 9
Rest of State | Sept. 1-Sept. 16 & Oct. 13-Oct. 23 & Nov. 24-Nov. 25 & Dec. 1-Feb. 10 | 5 3 3 3 | 15 9 9 9
White-fronted Geese:
Northwest Zone | Nov. 10-Nov. 11 & Dec. 1-Feb. 10 | 3 3 | 9 9
Rest of State | Nov. 24-Nov. 25 & Dec. 1-Feb. 10 | 3 3 | 9 9
Brant | Same as Canada Geese | 1 | 3
Light Geese | Same as Canada Geese | 20 |
Wisconsin:
Ducks (6)(8) |  | 6 | 18
North Zone | Sept. 29-Nov. 27 |  |
South Zone | Sept. 29-Oct. 7 & Oct. 13-Dec. 2 |  |
Mississippi River Zone | Sept. 29-Oct. 5 & Oct. 13-Dec. 4 |  |
Mergansers | Same as for Ducks | 5 | 15
Coots | Same as for Ducks | 15 | 45
Canada Geese (9):
North Zone | Sept. 1-Sept. 15 Sept. 16-Dec. 16 | 5 3 | 15 6
South Zone | Sept. 1-Sept. 15 Sept. 16-Oct. 7 & Oct. 13-Dec. 2 & Dec. 16-Jan. 3 | 5 3 3 3 | 15 9 9 9
Mississippi River Zone | Sept. 1-Sept. 15 Sept. 29-Oct. 5 & Oct. 13-Jan. 3 | 5 3 3 | 15 9 9
White-fronted Geese:
North Zone | Sept. 16-Dec. 16 | 1 | 3
South Zone | Sept. 16-Oct. 7 & Oct. 13-Dec. 2 & Dec. 16-Jan. 3 | 1 1 1 | 3 3 3
Mississippi River Zone | Sept. 29-Oct. 5 & Oct. 13-Jan. 3 | 1 1 | 3 3
Brant | Same as for White-fronted Geese | 1 | 3
Light Geese | Same as for White-fronted Geese | 20 |
(1) The dark goose daily bag limit is an aggregate daily bag limit for Canada geese, white-fronted geese, and brant.
(2) In Alabama and Michigan, the dark goose daily bag limit may not include more than 1 brant. Additionally, after September 30, the daily bag may not include more than 3 Canada geese.
(3) In Indiana, the dark goose daily bag limit of 5 may include 5 Canada geese during September 8 through September 16. During all other open season segments, the dark goose daily bag limit may not include more than 3 Canada geese. The possession limit is three times the daily bag limit.
(4) In Iowa, in the North Zone, the Missouri River Zone, and the South Zone, the dark goose daily bag limit may not include more than 2 Canada geese until October 31. After October 31, the daily bag limit may not include more than 3 Canada geese. The possession limit is three times the daily bag limit.
(5) In Minnesota, the daily bag limit is 15 and the possession limit is 45 coots and moorhens in the aggregate.
(6) In Ohio and Wisconsin, the daily bag limit may include no more than one female mallard.
(7) In Ohio, only Canada geese may be taken during the September 1 to September 9 portion of the dark goose season.
(8) In Wisconsin, the daily bag limit may include no more than 1 black duck.
(9) In Wisconsin, a Canada goose season permit is required if hunting Canada geese in either the early or regular season. See State regulations for further information.

Central Flyway

Flyway-Wide Restrictions

Duck Limits: The daily bag limit is 6 ducks, which may include no more than 5 mallards (2 female mallards), 2 pintails, 2 canvasbacks, 2 redheads, 3 scaup, and 3 wood ducks. The possession limit is three times the daily bag limit.

Merganser Limits: The daily bag limit is 5 mergansers and may include no more than 2 hooded mergansers. In States that include mergansers in the duck bag limit, the daily limit is the same as the duck bag limit, of which only 2 may be hooded mergansers. The possession limit is three times the daily bag limit.

| Season dates | Limits: Bag | Limits: Possession
Colorado:
Ducks |  | 6 | 18
Southeast Zone | Oct. 24-Jan. 27 |  |
Northeast Zone | Oct. 6-Nov. 26 & Dec. 15-Jan. 27 |  |
Mountain/Foothills Zone | Sept. 29-Nov. 26 & Dec. 22-Jan. 27 |  |
Coots | Same as for Ducks | 15 | 45
Mergansers | Same as for Ducks | 5 | 15
Dark Geese:
Northern Front Range Unit | Sept. 29-Oct. 10 & Nov. 17-Feb. 17 | 5 5 | 15 15
South Park/San Luis Valley Unit | Sept. 29-Jan. 11 | 5 | 15
North Park Unit | Sept. 29-Jan. 11 | 5 | 15
Rest of State in Central Flyway | Nov. 5-Feb. 17 | 5 | 15
Light Geese:
Northern Front Range Unit | Nov. 3-Feb. 17 | 50 |
South Park/San Luis Valley Unit | Same as N. Front Range Unit | 50 |
North Park Unit | Same as N. Front Range Unit | 50 |
Rest of State in Central Flyway | Same as N. Front Range Unit | 50 |
Kansas:
Ducks |  | 6 | 18
High Plains | Oct. 13-Dec. 31 & Jan. 12-Jan. 27 |  |
Low Plains:
Early Zone | Oct. 13-Dec. 16 & Dec. 22-Dec. 30 |  |
Late Zone | Oct. 27-Dec. 30 & Jan. 19-Jan. 27 |  |
Southeast Zone | Nov. 10-Jan. 6 & Jan. 12-Jan. 27 |  |
Mergansers | Same as for Ducks | 5 | 15
Coots | Same as for Ducks | 15 | 45
Dark Geese (1) | Oct. 27-Oct. 28 & Nov. 7-Feb. 17 | 6 6 | 18 18
White-Fronted Geese | Oct. 27-Dec. 30 & Jan. 26-Feb. 17 | 2 2 | 6 6
Light Geese | Oct. 27-Oct. 28 & Nov. 7-Feb. 17 | 50 50 |
Montana:
Ducks and Mergansers (2) |  | 6 | 18
Zone 1 | Sept. 29-Jan. 3 |  |
Zone 2 | Sept. 29-Oct. 7 & Oct. 20-Jan. 15 |  |
Coots | Same as for Ducks | 15 | 45
Dark Geese:
Zone 1 | Sept. 29-Jan. 6 & Jan. 12-Jan. 16 | 5 5 | 15 15
Zone 2 | Sept. 29-Oct. 7 & Oct. 20-Jan. 23 | 5 5 | 15 15
Light Geese:
Zone 1 | Same as for Dark Geese | 20 | 60
Zone 2 | Same as for Dark Geese | 20 | 60
Nebraska:
Ducks |  | 6 | 18
Zone 1 | Oct. 13-Dec. 25
Zone 2:
Low Plains | Oct. 6-Dec. 18 |  |
High Plains | Oct. 6-Dec. 18 & Jan. 7-Jan. 27 |  |
Zone 3:
Low Plains | Oct. 25-Jan. 6 |  |
High Plains | Oct. 25-Jan. 6 & Jan. 7-Jan. 27 |  |
Zone 4 | Oct. 6-Dec. 18 |  |
Mergansers | Same as for Ducks | 5 | 15
Coots | Same as for Ducks | 15 | 45
Canada Geese
Niobrara Unit | Oct. 29-Feb. 10 | 5 | 15
East Unit | Oct. 29-Feb. 10 | 5 | 15
North Central Unit | Oct. 6-Jan. 18 | 5 | 15
Platte River Unit | Oct. 29-Feb. 10 | 5 | 15
Panhandle Unit | Oct. 29-Feb. 10 | 5 | 15
White-Fronted Geese | Oct. 6-Dec. 9 & Jan. 19-Feb. 10 | 2 2 | 6 6
Light Geese | Oct. 6-Dec. 26 & Jan. 19-Feb. 10 | 50 50 |
New Mexico:
Ducks and Mergansers (3) |  | 6 | 18
North Zone | Oct. 13-Jan. 16 |  |
South Zone | Oct. 24-Jan. 27 |  |
Coots | Same as for Ducks | 15 | 45
Dark Geese
Middle Rio Grande Valley Unit | Dec. 22-Jan. 15 | 2 | 2
Rest of State | Oct. 13-Jan. 27 | 5 | 15
Light Geese | Oct. 13-Jan. 27 | 50 |
North Dakota:
Ducks (2) |  | 6 | 18
High Plains | Sept. 22-Dec. 2 & Dec. 8-Dec. 30 |  |
Remainder of State | Sept. 22-Dec. 2 |  |
Mergansers | Same as for Ducks | 5 | 15
Coots | Same as for Ducks | 15 | 45
Canada Geese (4)
Missouri River Zone | Sept. 22-Dec. 28 | 5 | 15
Western ND Zone | Sept. 22-Dec. 21 | 8 | 24
Rest of State | Sept. 22-Dec. 16 | 8 | 24
White-Fronted Geese | Sept. 22-Dec. 2 | 3 | 9
Light Geese | Sept. 22-Dec. 30 | 50 |
Oklahoma:
Ducks |  | 6 | 18
High Plains | Oct. 13-Jan. 9 |  |
Low Plains
Zone 1 | Oct. 27-Nov. 25 & Dec. 8-Jan. 20 |  |
Zone 2 | Nov. 3-Nov. 25 & Dec. 8-Jan. 27 |  |
Mergansers | Same as for Ducks | 5 | 15
Coots | Same as for Ducks | 15 | 45
Dark Geese (1) | Nov. 3-Nov. 25 & Dec. 8-Feb. 17 | 8 8 | 24 24
White-Fronted Geese | Nov. 3-Nov. 25 & Dec. 8-Feb. 10 | 2 2 | 6 6
Light Geese | Nov. 3-Nov. 25 & Dec. 8-Feb. 17 | 50 50 |
South Dakota:
Ducks (2) |  | 6 | 18
High Plains | Oct. 13-Dec. 25 & Dec. 26-Jan. 17 |  |
Low Plains:
North Zone | Sept. 29-Dec. 11 |  |
Middle Zone | Sept. 29-Dec. 11 |  |
South Zone | Oct. 27-Jan. 8 |  |
Mergansers | Same as for Ducks | 5 | 15
Coots | Same as for Ducks | 15 | 45
Canada Geese
Unit 1 | Oct. 1-Dec. 16 | 8 | 24
Unit 2 | Nov. 5-Feb. 17 | 4 | 12
Unit 3 | Oct. 20-Dec. 23 & Jan. 12-Jan. 20 | 4 4 | 12 12
White-Fronted Geese | Sept. 29-Dec. 23 | 2 | 6
Light Geese | Sept. 29-Jan. 11 | 50 |
Texas:
Ducks (5) |  | 6 | 18
High Plains | Oct. 27-Oct. 28 & Nov. 2-Jan. 27 |  |
Low Plains: |  |  |
North Zone | Nov. 10-Nov. 25 & Dec. 1-Jan. 27 |  |
South Zone | Nov. 3-Nov. 25 & Dec. 8-Jan. 27 |  |
Mergansers | Same as for Ducks | 5 | 15
Coots | Same as for Ducks | 15 | 45
Canada Geese and Brant (6)
East Tier:
South Zone | Nov. 3-Jan. 27 | 5 | 15
North Zone | Nov. 3-Jan. 27 | 5 | 15
West Tier | Nov. 3-Feb. 3 | 5 | 15
White-fronted Geese (6)
East Tier
South Zone | Nov. 3-Jan. 27 | 2 | 6
North Zone | Nov. 3-Jan. 27 | 2 | 6
West Tier | Nov. 3-Feb. 3 | 2 | 6
Light Geese:
East Tier:
South Zone | Nov. 3-Jan. 27 | 20 |
North Zone | Nov. 3-Jan. 27 | 20 |
West Tier | Nov. 3-Feb. 3 | 20 |
Wyoming:
Ducks (2)(7) |  | 6 | 18
Zone C1 | Sept. 29-Oct. 16 & Oct. 27-Jan. 13 |  |
Zone C2 | Sept. 22-Dec. 2 & Dec. 8-Jan. 1 |  |
Zone C3 | Same as Zone C2 |  |
Mergansers | Same as for Ducks | 5 | 15
Coots | Same as for Ducks | 15 | 45
Dark Geese:
Zone G1A (7) | Sept. 29-Oct. 10 & Nov. 17-Feb. 17 | 2 4 | 6 12
Zone G1 | Sept. 29-Oct. 7 & Nov. 3-Nov. 25 & Dec. 7-Feb. 17 | 5 5 5 | 15 15 15
Zone G2 | Sept. 22-Dec. 2 & Dec. 8-Jan. 9 | 5 5 | 15 15
Zone G3 | Same as Zone G2 | 5 | 15
Zone G4 | Same as Zone G1 | 5 | 15
Light Geese | Sept. 29-Dec. 30 & Feb. 6-Feb. 17 | 10 10 | 30 30
(1) In Kansas and Oklahoma, the dark geese daily bag limit includes Canada geese, brant, and all other geese except white-fronted geese and light geese.
(2) In Montana, during the first 9 days of the duck season, and in North Dakota, South Dakota, and Wyoming, during the first 16 days of the duck season, the daily bag and possession limit may include 2 and 6 additional blue-winged teal, respectively.
(3) In New Mexico, Mexican-like ducks are included in the aggregate with mallards.
(4) In North Dakota, see State regulations for additional shooting hour restrictions.
(5) In Texas, the daily bag limit is 6 ducks, which may include no more than 5 mallards (only 2 of which may be females), 2 redheads, 3 wood ducks, 3 scaup, 2 canvasbacks, 1 pintail, and 1 dusky duck (mottled duck, Mexican-like duck, black duck and their hybrids). The season for dusky ducks is closed the first 5 days of the season in all zones. The possession limit is three times the daily bag limit.
(6) In Texas, in the West Goose Zone, the daily bag limit for dark geese is 5 in the aggregate and may include no more than 2 white-fronted geese. Possession limits are three times the daily bag limits.
(7) See State regulations for additional restrictions.

Pacific Flyway

Flyway-Wide Restrictions

Duck and Merganser Limits: The daily bag limit of 7 ducks (including mergansers) may include no more than 2 female mallards, 2 pintails, 2 redheads, 3 scaup, and 2 canvasbacks. The possession limit is three times the daily bag limit.

Coot and Common Moorhen Limits: Daily bag and possession limits are in the aggregate for the two species.

| Season dates | Limits: Bag | Limits: Possession
Arizona:
Ducks (1) |  | 7 | 21
North Zone:
Scaup | Oct. 20-Jan. 13 | 3 | 9
Other Ducks | Oct. 5-Jan. 13 | 7 | 21
South Zone:
Scaup | Nov. 3-Jan. 27 | 3 | 9
Other Ducks | Oct. 19-Jan. 27 | 7 | 21
Coots and Moorhens | Same as for Other Ducks | 25 | 75
Dark Geese:
North Zone | Oct. 5-Jan. 13 | 4 | 12
South Zone | Oct. 19-Jan. 27 | 4 | 12
Light Geese | Same as for Dark Geese | 10 | 30
California:
Ducks |  | 7 | 21
Northeastern Zone:
Scaup | Oct. 6-Dec. 2 & Dec. 22-Jan. 18 | 3 3 | 9 9
Other Ducks | Oct. 6-Jan. 18 | 7 | 21
Colorado River Zone:
Scaup | Nov. 3-Jan. 27 | 3 | 9
Other Ducks | Oct. 19-Jan. 27 | 7 | 21
Southern Zone:
Scaup | Nov. 3-Jan. 27 | 3 | 9
Other Ducks | Oct. 20-Jan. 27 | 7 | 21
Southern San Joaquin Valley Zone:
Scaup | Nov. 3-Jan. 27 | 3 | 9
Other Ducks | Oct. 20-Jan. 27 | 7 | 21
Balance of State Zone:
Scaup | Nov. 3-Jan. 27 | 3 | 9
Other Ducks | Oct. 20-Jan. 27 | 7 | 21
Coots and Moorhens | Same as for Other Ducks | 25 | 75
Canada Geese (2) (3):
Northeastern Zone (4) | Oct. 6-Jan. 13 | 10 | 30
Klamath Basin Special Management Area | Oct. 6-Jan. 13 | 10 | 30
Colorado River Zone | Oct. 19-Jan. 27 | 4 | 12
Southern Zone | Oct. 20-Jan. 27 | 3 | 9
Balance of State Zone | Sept. 29-Oct. 3 & Oct. 20-Jan. 27 | 10 10 | 30 30
North Coast Special Management Area | Oct. 31-Jan. 27 & Feb. 23-Mar. 10 | 10 10 | 30 30
White-fronted Geese (2):
Northeastern Zone | Oct. 6-Dec. 2 & Jan. 5-Jan. 18 & Feb. 6-Mar.10 | 10 10 10 | 30 30 30
Klamath Basin Special Management Area | Oct. 6-Jan. 18 | 10 | 30
Colorado River Zone | Oct. 19-Jan. 27 | 4 | 12
Southern Zone | Oct. 20-Jan. 27 | 3 | 9
Balance of State Zone | Oct. 20-Jan. 27 & Feb. 9-Feb. 13 | 10 10 | 30 30
Sacramento Valley Special Management Area | Oct. 20-Dec. 21 | 3 | 9
Light Geese:
Northeastern Zone | Oct. 6-Dec. 2 & Jan. 5-Jan. 18 & Feb. 6-Mar.10 | 20 20 20 | 60 60 60
Klamath Basin Special Management Area | Oct. 6-Jan. 18 | 20 | 60
Colorado River Zone | Oct. 19-Jan. 27 | 20 | 60
Southern Zone | Oct. 20-Jan. 27 | 20 | 60
Imperial County Special Management Area | Nov. 3-Jan. 27 & Feb. 2-Feb. 18 | 20 20 | 60 60
Balance of State Zone | Oct. 20-Jan. 27 & Feb. 9-Feb. 13 | 20 20 | 60 60
Brant:
Northern Zone | Nov. 9-Dec. 15 | 2 | 6
Balance of State Zone | Nov. 9-Dec. 15 | 2 | 6
Colorado:
Ducks |  | 7 | 21
East Zone:
Scaup | Sept. 29-Dec. 23 | 3 | 9
Other Ducks | Sept. 29-Jan. 11 | 7 | 21
West Zone:
Scaup | Sept. 29-Oct. 17 & Nov. 3-Jan. 8 | 3 3 | 9 9
Other Ducks | Sept. 29-Oct. 17 & Nov. 3-Jan. 27 | 7 7 | 21 21
Coots | Same as for Other Ducks | 25 | 75
Dark Geese:
East Zone | Sept. 29-Jan. 2 | 4 | 12
West Zone | Sept. 29-Oct. 8 & Nov. 3-Jan. 27 | 4 4 | 12 12
Light Geese: | Same as for Dark Geese | 10 | 30
Idaho:
Ducks |  | 7 | 21
Zone 1:
Scaup | Oct. 6-Dec. 30 | 3 | 9
Other Ducks | Oct. 6-Jan. 18 | 7 | 21
Zone 2:
Scaup | Oct. 6-Dec. 30 | 3 | 9
Other Ducks | Oct. 6-Jan. 18 | 7 | 21
Zone 3:
Scaup | Nov. 1-Jan. 25 | 3 | 9
Other Ducks | Oct. 13-Jan. 25 | 7 | 21
Zone 4:
Scaup | Oct. 6-Dec. 30 | 3 | 9
Other Ducks | Oct. 6-Jan. 18 | 7 | 21
Coots | Same as for Other Ducks | 25 | 75
Canada Geese and Brant:
Zone 1 | Oct. 6-Jan. 18 | 4 | 12
Zone 2 | Oct. 6-Jan. 18 | 4 | 12
Zone 3 | Oct. 13-Jan. 25 | 4 | 12
Zone 4 | Oct. 6-Jan. 3 | 4 | 12
Zone 5 | Oct. 6-Jan. 18 | 4 | 12
White-fronted Geese:
Zone 1 | Oct. 6-Jan. 18 | 10 | 30
Zone 2 | Oct. 6-Jan. 18 | 10 | 30
Zone 3 | Oct. 13-Jan. 25 | 10 | 30
Zone 4 | Nov. 5-Feb. 17 | 10 | 30
Zone 5 | Oct. 6-Jan. 18 | 10 | 30
Light Geese:
Zone 1 | Oct. 6-Jan. 18 | 20 | 60
Zone 2 | Nov. 5-Jan. 18 & Feb. 9-Mar. 10 | 20 20 | 60 60
Zone 3 | Nov. 26-Mar. 10 | 20 | 60
Zone 4 | Oct. 13-Jan. 25 | 20 | 60
Zone 5 (5) | Oct. 6-Jan. 18 | 20 | 60
Zone 6 | Oct. 6-Jan. 18 | 20 | 60
Montana:
Ducks |  | 7 | 21
Scaup | Sept. 29-Dec. 23 | 3 | 9
Other Ducks | Sept. 29-Jan. 6 & Jan. 12-Jan. 16 | 7 7 | 21 21
Coots | Same as for Other Ducks | 25 | 25
Dark Geese (6) | Sept. 29-Jan. 6 & Jan. 12-Jan. 16 | 4 4 | 12 12
Light Geese (6) | Same as for Dark Geese | 20 | 60
Nevada:
Ducks |  | 7 | 21
Northeast Zone:
Scaup | Sept. 22-Oct. 21 & Oct. 24-Dec. 18 | 3 3 | 9 9
Other Ducks | Sept. 22-Oct. 21 & Oct. 24-Jan. 6 | 7 7 | 21 21
Northwest Zone:
Scaup | Oct. 27-Jan. 20 | 3 | 9
Other Ducks | Oct. 6-Oct. 21 & Oct. 24-Jan. 20 | 7 7 | 21 21
South Zone:
Scaup | Nov. 3-Jan. 27 | 3 | 9
Other Ducks | Oct. 13-Oct. 21 & Oct. 24-Jan. 27 | 7 7 | 21 21
Moapa Valley Special Management Area (7):
Scaup | Nov. 3-Jan. 27 | 3 | 9
Other Ducks | Oct. 27-Jan. 27 | 7 | 21
Coots and Moorhens | Same as for Other Ducks | 25 | 75
Canada Geese and Brant:
Northeast Zone | Same as for Other Ducks | 4 | 12
Northwest Zone | Same as for Other Ducks | 4 | 12
South Zone | Same as for Other Ducks | 4 | 12
Moapa Valley Special Management Area (7): | Same as for Other Ducks | 4 | 12
White-fronted Geese:
Northeast Zone | Same as for Canada Geese | 10 | 30
Northwest Zone | Same as for Canada Geese | 10 | 30
South Zone | Same as for Canada Geese | 10 | 30
Moapa Valley Special Management Area (7): | Same as for Canada Geese | 10 | 30
Light Geese (8):
Northeast Zone | Oct. 24-Jan. 6 & Feb. 23-Mar. 10 | 20 20 | 60 60
Northwest Zone | Oct. 24-Jan. 20 & Feb. 23-Mar. 10 | 20 20 | 60 60
South Zone | Oct. 13-Oct. 21 & Oct. 24-Jan. 27 | 20 20 | 60 60
Moapa Valley Special Management Area (7): | Oct. 27-Jan. 27 | 20 | 60
New Mexico:
Ducks |  | 7 | 21
Scaup | Oct. 15-Jan. 8 | 3 | 9
Other Ducks | Oct. 15-Jan. 27 | 7 | 21
Coots and Moorhens | Same as for Other Ducks | 25 | 75
Canada Geese and Brant:
North Zone | Sept. 22-Oct. 7 & Oct. 29-Jan. 27 | 4 4 | 12 12
South Zone | Oct. 13-Jan. 27 | 4 | 12
White-fronted Geese:
North Zone | Same as for Canada Geese | 10 | 30
South Zone | Same as for Canada Geese | 10 | 30
Light Geese:
North Zone | Same as for Canada Geese | 20 | 60
South Zone | Same as for Canada Geese | 20 | 60
Oregon:
Ducks |  | 7 | 21
Zone 1:
Columbia Basin Unit:
Scaup | Nov. 3-Jan. 27 | 3 | 9
Other Ducks | Oct. 13-Oct. 28 & Oct. 31-Jan. 27 | 7 7 | 21 21
Rest of Zone 1 | Same as Columbia Basin Unit |  |
Zone 2:
Scaup | Oct. 6-Nov. 25 & Nov. 28-Jan. 1 | 3 3 | 9 9
Other Ducks | Oct. 6-Nov. 25 & Nov. 28-Jan. 20 | 7 7 | 21 21
Coots | Same as for Other Ducks | 25 | 75
Canada Geese:
Northwest Permit Zone (9) (10) | Oct. 20-Oct. 28 & Nov. 17-Jan. 12 & Feb. 9-Mar. 10 | 6 6 6 | 18 18 18
Tillamook County Management Area | Closed |  |
Southwest Zone | Oct. 13-Oct. 28 & Nov. 5-Jan. 27 | 4 4 | 12 12
South Coast Zone | Sept. 29-Nov. 25 & Dec. 15-Jan. 14 & Feb. 23-Mar. 10 | 6 6 6 | 18 18 18
Eastern Zone | Oct. 13-Oct. 28 & Nov. 5-Jan. 27 | 4 4 | 12 12
Klamath County Zone | Oct. 6-Nov. 25 & Dec. 10-Jan. 27 | 4 4 | 12 12
Harney and Lake County Zone | Oct. 6-Nov. 25 & Dec. 10-Jan. 27 | 4 4 | 12 12
Malheur County Zone | Oct. 6-Nov. 25 & Dec. 10-Jan. 27 | 4 4 | 12 12
White-fronted Geese:
Northwest Permit Zone (9) | Same as for Canada Geese | 10 | 30
Tillamook County Management Area | Closed |  |
Southwest Zone | Same as for Canada Geese | 10 | 30
South Coast Zone | Same as for Canada Geese | 10 | 30
Eastern Zone | Same as for Canada Geese | 10 | 30
Klamath County Zone | Oct. 6-Nov. 25 & Jan. 16-Mar. 10 | 10 10 | 30 30
Harney and Lake County Zone (11) | Oct. 6-Nov. 25 & Jan. 16-Mar. 10 | 10 10 | 30 30
Malheur County Zone | Oct. 6-Nov. 25 & Jan. 16-Mar. 10 | 10 10 | 30 30
Light Geese:
Northwest Permit Zone (9) | Same as for Canada Geese | 6 | 18
Tillamook County Management Area | Closed |  |
Southwest Zone | Same as for Canada Geese | 6 | 18
South Coast Zone | Same as for Canada Geese | 6 | 18
Eastern Zone | Same as for Canada Geese | 6 | 18
Klamath County Zone (12) | Oct. 6-Nov. 25 & Jan. 16-Mar. 10 | 6 6 | 18 18
Harney and Lake County Zone (12) | Oct. 6-Nov. 25 & Jan. 16-Mar. 10 | 6 6 | 18 18
Malheur County Zone (12) | Oct. 6-Nov. 25 & Jan. 16-Mar. 10 | 6 6 | 18 18
Brant | Nov. 24-Dec. 9 | 2 | 6
Utah:
Ducks |  | 7 | 21
Zone 1:
Scaup | Oct. 6-Dec. 30 | 3 | 9
Other Ducks | Oct. 6-Jan. 19 | 7 | 21
Zone 2:
Scaup | Nov. 2-Jan. 26 | 3 | 9
Other Ducks | Oct. 13-Jan. 26 | 7 | 21
Coots | Same as for Other Ducks | 25 | 75
Canada Geese and Brant:
Northern Zone | Oct. 6-Oct. 18 & Oct. 27-Jan. 27 | 4 4 | 12 12
Wasatch Front Zone | Oct. 6-Oct. 18 & Nov. 3-Feb. 3 | 4 4 | 12 12
East Box Elder County Zone | Oct. 6-Jan. 19 | 4 | 12
Southern Zone | Oct. 13-Jan. 26 | 4 | 12
White-fronted Geese:
Northern Zone | Same as for Canada Geese | 10 | 30
Wasatch Front Zone | Same as for Canada Geese | 10 | 30
East Box Elder County Zone | Same as for Canada Geese | 10 | 30
Southern Zone | Same as for Canada Geese | 10 | 30
Light Geese:
Northern Zone | Oct. 25-Nov. 30 & Jan. 1-Mar. 10 | 20 20 | 60 60
Wasatch Front Zone | Same as for Northern Zone | 20 | 60
East Box Elder County Zone | Same as for Northern Zone | 20 | 60
Southern Zone | Same as for Northern Zone | 20 | 60
Washington:
Ducks |  | 7 | 21
East Zone:
Scaup | Nov. 3-Jan. 27 | 3 | 9
Other Ducks | Oct. 13-Oct 31 & Nov. 3-Jan. 27 | 7 7 | 21 21
West Zone (13) | Same as East Zone |  |
Coots | Same as for Other Ducks | 25 | 75
Canada Geese:
Area 1 (14) | Oct. 13-Nov. 25 & Dec. 8-Jan. 27 | 4 4 | 12 12
Area 2 Inland (15) (16) | Oct. 13-Oct. 28 & Nov. 24-Jan. 13 & Feb. 9-Mar. 9 | 4 4 4 | 12 12 12
Area 2 Coast (15) (16) | Oct. 13-Dec. 2 & Dec. 22-Jan. 20 & Feb. 2-Feb. 16 | 4 4 4 | 12 12 12
Area 3 (14) | Oct. 13-Oct. 25 & Nov. 3-Jan. 27 | 4 4 | 12 12
Area 4 (14) | Oct. 13-Oct. 28 & Oct. 31 only & Nov. 3-Jan. 27 | 4 4 4 | 12 12 12
Area 5 (14) | Oct. 13-Oct. 29 & Nov. 3-Jan. 27 | 4 4 | 12 12
White-fronted Geese:
Area 1 (14) | Same as for Canada Geese | 10 | 30
Area 2 Inland (15) | Same as for Canada Geese | 10 | 30
Area 2 Coast (15) | Same as for Canada Geese | 10 | 30
Area 3 (14) | Same as for Canada Geese | 10 | 30
Area 4 (14) | Same as for Canada Geese | 10 | 30
Area 5 (14) | Same as for Canada Geese | 10 | 30
Light Geese:
Area 1 (14) | Oct. 13-Nov. 25 & Dec. 8-Jan. 27 & Feb. 9-Feb. 20 | 6 6 6 | 18 18 18
Area 2 Inland (15) | Same as for Canada Geese | 6 | 18
Area 2 Coast (15) | Same as for Canada Geese | 6 | 18
Area 3 (14) | Same as for Canada Geese | 6 | 18
Area 4 (14) | Same as for Canada Geese | 6 | 18
Area 5 (14) | Same as for Canada Geese | 6 | 18
Brant (17):
Coastal Zone | Jan. 12-Jan. 27 | 2 | 6
Puget Sound Zone | Jan. 12-Jan. 27 | 2 | 6
Wyoming:
Ducks |  | 7 | 21
Snake River Zone:
Scaup | Sept. 22-Dec. 16 | 3 | 9
Other Ducks | Sept. 22-Jan. 4 | 7 | 21
Balance of State Zone
Scaup | Sept. 22-Dec. 16 | 3 | 9
Other Ducks | Sept. 22-Jan. 4 | 7 | 21
Coots | Same as for Other Ducks | 15 | 45
Dark Geese | Sept. 22-Dec. 27 | 4 | 12
Light Geese | Sept. 22-Dec. 27 | 10 | 30
(1) In Arizona, the daily bag limit may include no more than either 2 female mallards or 2 Mexican-like ducks, or 1 of each; and not more than 6 female mallards and Mexican-like ducks, in the aggregate, may be in possession. For black-bellied whistling ducks, the daily bag limit is 1 and the possession limit is 3.
(2) In California, the daily bag and possession limits for Canada geese and white-fronted geese are in the aggregate.
(3) In California, small Canada geese are Cackling and Aleutian Canada geese, and large Canada geese are Western and Lesser Canada geese.
(4) In California, in the Northeastern Zone, the daily bag limit may include no more than 2 large Canada geese.
(5) In Idaho, the season on light geese is closed in Fremont and Teton Counties.
(6) In Montana, check State regulations for special seasons and exceptions.
(7) In Nevada, youth 17 years of age or younger are allowed to hunt on October 13 on the Moapa Valley portion of Overton WMA. Youth must be accompanied by an adult who is at least 18 years of age.
(8) In Nevada, there is no open season on light geese in Ruby Valley within Elko and White Pine Counties. In addition, the season is closed in Alkali Lake, Fernley, Humboldt, Kirch, Mason Valley, Scripps, and Steptoe Valley WMA and Washoe State Park from February 24 to March 10.
(9) In Oregon, in the Northwest Permit Zone, see State regulations for specific dates, times, and conditions of permit hunts and closures.
(10) In Oregon, in the Northwest Permit Zone, the season for dusky Canada geese is closed.
(11) In Oregon, in Lake County, the daily bag and possession limits for white-fronted geese are 1 and 3, respectively.
(12) In Oregon, in Klamath County, Harney and Lake County, and Malheur County Zones, during January 28 through March 10, the daily bag and possession limits are 20 and 60, respectively.
(13) In Washington, the daily bag limit in the West Zone may include no more than 2 scoters, 2 long-tailed ducks, and 2 goldeneyes, with the possession limit three times the daily bag limit. The daily bag and possession limit, and the season limit, for harlequins is 1.
(14) In Washington, in Areas 1, 3, and 5, hunting is allowed everyday. In Area 4, hunting is allowed only on Saturdays, Sundays, Wednesdays, and certain holidays. See State regulations for details, including shooting hours.
(15) In Washington, in Areas 2 Inland and 2 Coast, see State regulations for specific dates, times, and conditions of permit hunts and closures.
(16) In Washington, in Areas 2 Inland and 2 Coast, the season for dusky Canada geese is closed.
(17) In Washington, brant may be hunted in Clallam, Pacific, Skagit, and Watcom Counties only; see State regulations for specific dates.

(f) Youth Waterfowl Hunting Days

The following seasons are open only to youth hunters. Youth hunters must be accompanied into the field by an adult at least 18 years of age. This adult cannot duck hunt but may participate in other open seasons.

Definition

Youth Hunters: States may use their established definition of age for youth hunters. However, youth hunters may not be over the age of 17. Youth hunters 16 years of age and older must possess a Federal Migratory Bird Hunting and Conservation Stamp (also known as Federal Duck Stamp).

|  | Season dates
ATLANTIC FLYWAY
Connecticut:
Ducks, geese, mergansers, and coots | Sept. 29 & Oct. 27.
Delaware:
Ducks, geese, brant, mergansers, and coots | Oct. 20 & Feb. 9.
Florida:
Ducks, mergansers, coots, moorhens, and geese | Feb. 2 & 3.
Georgia:
Ducks, geese, mergansers, coots, moorhens, and gallinules | Nov. 10 & 11.
Maine:
Ducks, geese, mergansers, and coots:
North Zone | Sept. 15 & Dec. 8.
South Zone | Sept. 22 & Oct. 20.
Coastal Zone | Sept. 22 & Nov. 3.
Maryland (1)(2):
Ducks, coots, light geese, Canada geese, sea ducks, and brant | Nov. 3 & Feb. 9.
Massachusetts:
Ducks, mergansers, coots, and geese | Sept. 22 & Oct. 6.
New Hampshire:
Ducks, geese, mergansers, and coots | Sept. 29 & 30.
New Jersey:
Ducks, geese, mergansers, coots, moorhens, and gallinules:
North Zone | Oct. 6 & Feb. 2.
South Zone | Oct. 13 & Feb. 2.
Coastal Zone | Nov. 3 & Feb. 9.
New York (3):
Ducks, mergansers, coots, brant, and Canada geese:
Long Island Zone | Nov. 10 & 11.
Lake Champlain Zone | Sept. 29 & 30.
Northeastern Zone | Sept. 22 & 23.
Southeastern Zone | Sept. 22 & 23.
Western Zone | Oct. 13 & 14.
North Carolina:
Ducks, mergansers, geese (4), brant, tundra swans (5), and coots | Feb. 2 & Feb. 9.
Pennsylvania
Ducks, mergansers, Canada geese, coots, moorhens, brant, and gallinules:
North Zone | Sept. 15 & Jan. 19.
South Zone | Sept. 15 & Jan. 26.
Northwest Zone | Sept. 15 & Dec. 15.
Lake Erie Zone | Sept. 15 & Oct. 20.
Rhode Island:
Ducks, sea ducks, mergansers, geese, and coots | Oct. 27 & 28.
South Carolina:
Ducks, geese, mergansers, and coots | Feb. 2 & 9.
Vermont:
Ducks, geese, mergansers and coots | Sept. 29 & 30.
Virginia:
Ducks, mergansers, coots, sea ducks, tundra swans (5), and Canada geese (6) | Oct. 20 & Feb. 2.
West Virginia:
Ducks, geese, mergansers, coots, and gallinules | Sept. 15 & Nov. 3.
MISSISSIPPI FLYWAY
Alabama:
Ducks, mergansers, coots, geese, moorhens, and gallinules | Nov. 17 & Feb. 2.
Arkansas:
Ducks, geese, mergansers, coots, moorhens, and gallinules | Dec. 1 & Feb. 2.
Illinois:
Ducks, geese, mergansers, and coots:
North Zone | Oct. 13 & 14.
Central Zone | Oct. 20 & 21.
South Central Zone | Nov. 3 & 4.
South Zone | Nov. 10 & 11.
Indiana:
Ducks, mergansers, coots, moorhens, gallinules, and geese:
North Zone | Oct. 13 & 14.
Central Zone | Oct. 20 & 21.
South Zone | Oct. 27 & 28.
Iowa:
Ducks, mergansers, and coots:
North Zone | Sept. 22 & 23.
Missouri River Zone | Oct. 6 & 7.
South Zone | Sept. 29 & 30.
Kentucky:
Ducks, geese, mergansers, coots, moorhens, and gallinules:
West Zone | Feb. 2 & 3.
East Zone | Nov. 3 & 4.
Louisiana:
Ducks, mergansers, coots, moorhens, gallinules, and geese:
West Zone | Nov. 3 & Jan. 26.
East Zone | Nov. 10 & Feb. 2.
Coastal Zone | Nov. 3 & Nov. 4.
Michigan:
Ducks, geese, mergansers, coots, moorhens, and gallinules | Sept. 15 & 16.
Minnesota:
Ducks, geese, mergansers, coots, moorhens, and gallinules | Sept. 8.
Mississippi:
Ducks, mergansers, coots, moorhens, gallinules, and geese | Nov. 17 & Feb. 2.
Missouri:
Ducks, coots, mergansers, moorhens, gallinules, and geese:
North Zone | Oct. 20 & 21.
Middle Zone | Oct. 20 & 21.
South Zone | Nov. 17 & 18.
Ohio:
Ducks, mergansers, coots, moorhens, gallinules, and geese:
Lake Erie Marsh | Oct. 6 & 7.
North Zone | Oct. 6 & 7.
South Zone | Oct. 6 & 7.
Tennessee:
Ducks, mergansers, coots, moorhens, gallinules, and geese:
Reelfoot Zone | Feb. 2 & 9.
Remainder of State | Feb. 2 & 9.
Wisconsin:
Ducks, geese, mergansers, coots, moorhens, and gallinules | Sept. 15 & 16.
CENTRAL FLYWAY
Colorado:
Ducks, dark geese, mergansers, and coots:
Mountain/Foothills Zone | Sept. 22 & 23.
Northeast Zone | Sept. 29 & 30.
Southeast Zone | Oct. 20 & 21.
Kansas: (7):
Ducks, geese, mergansers, and coots:
High Plains | Oct. 6 & 7.
Low Plains:
Early Zone | Oct. 6 & 7.
Late Zone | Oct. 20 & 21.
Southeast Zone | Nov. 3 & 4.
Montana:
Ducks, geese, mergansers, and coots | Sept. 22 & 23.
Nebraska:
Ducks, geese, mergansers, and coots:
Zone 1 | Oct. 6 & 7.
Zone 2 | Sept. 29 & 30.
Zone 3 | Oct. 20 & 21.
Zone 4 | Sept. 29 & 30.
New Mexico:
Ducks, mergansers, coots, and moorhens:
North Zone | Sept. 29 & 30.
South Zone | Oct. 6 & 7.
North Dakota:
Ducks, geese, mergansers, and coots | Sept. 15 & 16.
Oklahoma:
Ducks, geese mergansers, and coots:
High Plains | Oct. 6 & Feb. 2.
Low Plains:
Zone 1 | Oct. 6 & Feb. 2.
Zone 2 | Oct. 6 & Feb. 2.
South Dakota:
Ducks, Canada geese, mergansers, and coots | Sept. 22 & 23.
Texas:
Ducks, geese, mergansers, moorhens, gallinules, and coots:
High Plains | Oct. 20 & 21.
Low Plains:
North Zone | Nov. 3 & 4.
South Zone | Oct. 27 & 28.
Wyoming:
Ducks, geese, mergansers, and coots:
Zone C1 | Sept. 22 & 23.
Zone C2 | Sept. 15 & 16.
Zone C3 | Sept. 15 & 16.
PACIFIC FLYWAY
Arizona:
Ducks, geese, mergansers, coots, and moorhens:
North Zone | Sept. 29 & 30.
South Zone | Feb. 2 & 3.
California:
Ducks, geese, brant, mergansers, coots, and moorhens:
Northeastern Zone | Sept. 22 & 23.
Colorado River Zone | Feb. 2 & 3.
Southern Zone | Feb. 2 & 3.
Southern San Joaquin Valley Zone | Feb. 2 & 3.
Balance of State Zone | Feb. 2 & 3.
Colorado:
Ducks, geese, mergansers, and coots:
East Zone | Sept. 22 & 23.
West Zone | Oct. 27 & 28.
Idaho:
Ducks, geese, mergansers, and coots | Sept. 29 & 30.
Montana:
Ducks, geese, mergansers, and coots | Sept. 22 & 23.
Nevada:
Ducks, geese, mergansers, coots, and moorhens:
Northeast Zone | Sept. 8 & 9.
Northwest Zone | Sept. 22 & Feb. 2.
South Zone | Feb. 9 & 10.
New Mexico:
Ducks, mergansers, coots, and moorhens | Oct. 6 & 7.
Oregon:
Ducks, geese, mergansers, and coots | Sept. 22 & 23.
Utah:
Ducks, dark geese, mergansers, and coots:
Zone 1 | Sept. 22.
Zone 2 | Sept. 29.
Washington:
Ducks, Canada geese, white-fronted geese, mergansers, and coots:
East Zone | Sept. 29 & 30.
West Zone | Sept. 22 & 23.
Wyoming:
Ducks, geese, mergansers, and coots | Sept. 15 & 16.
(1) In Maryland, youth hunter(s) must be accompanied by an adult at least 21 years old and who possesses a current Maryland hunting license or is exempt from the hunting license requirement. The adult accompanying the youth hunter(s) may not possess a hunting weapon and may not participate in other seasons that are open on the youth days.
(2) In Maryland, the bag limit for Canada geese is 2 in the AP Zone and 5 in the RP Zone.
(3) In New York, the daily bag limit for Canada geese is 3.
(4) In North Carolina, the daily bag limit in the Northeast Hunt Zone may not include dark geese except by permit.
(5) In North Carolina and Virginia, the daily bag limit may not include tundra swans except by permit.
(6) In Virginia, the daily bag limit for Canada geese is 2.
(7) In Kansas, the adult accompanying the youth must possess any licenses and/or stamps required by law for that individual to hunt waterfowl.

7. Section 20.106 is revised to read as follows:

§ 20.106 Seasons, limits, and shooting hours for sandhill cranes.

Subject to the applicable provisions of the preceding sections of this part, areas open to hunting, respective open seasons (dates inclusive), shooting and hawking hours, and daily bag and possession limits on the species designated in this section are as follows:

Shooting and hawking hours are one-half hour before sunrise until sunset, except as otherwise noted. Area descriptions were published in the June 4, 2018, Federal Register (83 FR 25738).

Federally authorized, State-issued permits are issued to individuals, and only the individual whose name and address appears on the permit at the time of issuance is authorized to take sandhill cranes at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR AREA DESCRIPTIONS AND ANY ADDITIONAL RESTRICTIONS.

| Season dates | Limits: Bag | Limits: Possession
MISSISSIPPI FLYWAY
Kentucky (1) | Dec. 3-Jan. 27 | 2 | 3 per season.
Minnesota (1)
NW Goose Zone | Sept. 15-Oct. 21 | 1 | 3.
Tennessee (1)(2):
Southeast Zone (3) | Dec. 1-Jan. 27 | 3 | 3 per season.
Rest of State | Dec. 1-Jan. 27 | 1 | 1 per season.
CENTRAL FLYWAY
Colorado (1) | Sept. 29-Nov. 25 | 3 | 9.
Kansas (1)(4)(5) | Nov. 7-Jan. 3 | 3 | 9.
Montana:
Regular Season Area (1) | Sept. 29-Nov. 25 | 3 | 9.
Special Season Area (6) | Sept. 1-Oct. 28 | 2 per season.
New Mexico:
Regular Season Area (1) | Oct. 27-Jan. 27 | 3 | 6.
Middle Rio Grande Valley Area (6)(7) | Nov. 10-Nov. 11 & Nov. 24-Nov. 25 & Dec. 1 & Dec. 15-Dec. 16 & Jan. 5-Jan. 6 & Jan. 12-Jan. 13 | 3 3 3 3 3 3 | 6 per season. 6 per season. 3 per season. 6 per season. 6 per season. 6 per season.
Southwest Area (6) | Oct. 27-Nov. 4 & Jan. 5-Jan. 6 | 3 3 | 6 per season. 6 per season.
Estancia Valley (6)(8) | Oct. 27-Nov. 4 | 3 | 6.
North Dakota (1):
Area 1 | Sept. 15-Nov. 11 | 3 | 9.
Area 2 | Sept. 15-Nov. 11 | 2 | 6.
Oklahoma (1) | Oct. 20-Jan. 20 | 3 | 9.
South Dakota (1) | Sept. 22-Nov. 18 | 3 | 9.
Texas (1):
Zone A | Oct. 27-Jan. 27 | 3 | 9.
Zone B | Nov. 23-Jan. 27 | 3 | 9.
Zone C | Dec. 15-Jan. 20 | 2 | 6.
Wyoming:
Regular Season (Area 7) (1) | Sept. 15-Nov. 11 | 3 | 9.
Riverton-Boysen Unit (Area 4) (6) | Sept. 15-Oct. 7 | 1 per season.
Big Horn, Hot Springs, Park, and Washakie Counties (Area 6) (6) | Sept. 15-Oct. 7 | 1 per season.
Johnson, Natrona, and Sheridan Counties (Area 8) (6) | Sept. 1-Sept. 30 | 1 per season.
PACIFIC FLYWAY
Arizona (6):
Zone 1 (9) | Nov. 9-Dec. 9 | 3 per season.
Zone 2 (10) | Nov. 24-Dec. 12 | 3 per season.
Idaho (6):
Areas 1, 3, & 4 | Sept. 1-Sept. 30 | 2 per season.
Areas 2, 5, & 6 | Sept. 1-Sept. 15 | 2 per season.
Montana (6)(11):
Zone 1 & 4 | Sept. 1-Oct. 28 | 1 | 1.
Zone 2 & 3 | Sept. 1-Oct. 28 | 2 | 2.
Utah (6):
Rich County | Sept. 1-Sept. 9 | 1 per season.
Cache County | Sept. 1-Sept. 9 | 1 per season.
East Box Elder County | Sept. 1-Sept. 9 | 1 per season.
Uintah County | Sept. 29-Nov. 27 | 1 per season.
Wyoming (6):
Areas 1, 2, 3, & 5 | Sept. 1-Sept. 8 | 1 per season.
(1) Each person participating in the regular sandhill crane seasons must have a valid sandhill crane hunting permit in their possession while hunting.
(2) In Tennessee, the shooting hours are from sunrise to 3 p.m.
(3) In Tennessee, in the Southeast Zone, the season is also closed from January 18 through January 20, 2019.
(4) In Kansas, shooting hours are from sunrise until sunset.
(5) In Kansas, each person desiring to hunt sandhill cranes is required to pass an annual, online sandhill crane identification examination.
(6) Hunting is by State permit only. See State regulations for further information.
(7) In New Mexico, in the Middle Rio Grande Valley Area (Bernardo WMA and Casa Colorado WMA), the season is only open for youth hunters on December 1. See State regulations for further details.
(8) In New Mexico, in the Estancia Valley Area, the season will be closed to crane hunting on October 31.
(9) In Arizona, in Zone 1, season dates are November 9 to 11, November 16 to 18, November 20 to 22, November 24 to 26, November 28 to 30, December 2 to 4, and December 7 to 9. November 9 to 11 is restricted to archery hunters only and December 7 to 9 is restricted to youth hunters only.
(10) In Arizona, in Zone 2, season dates are November 24 to 26, November 28 to 30, December 2 to 4, December 6 to 8, and December 10 to 12.
(11) In Montana, the possession limit is 2 per season.

8. Section 20.107 is revised to read as follows:

§ 20.107 Seasons, limits, and shooting hours for swans.

Subject to the applicable provisions of the preceding sections of this part, areas open to hunting, respective open seasons (dates inclusive), shooting and hawking hours, and daily bag and possession limits on the species designated in this section are as follows:

Shooting hours are one-half hour before sunrise until sunset, except as otherwise restricted by State regulations. Hunting is by State permit only.

Federally authorized, State-issued permits are issued to individuals, and only the individual whose name and address appears on the permit at the time of issuance is authorized to take swans at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Note: Successful permittees must immediately validate their harvest by that method required in State regulations.

| Season dates | Limits
ATLANTIC FLYWAY
North Carolina | Nov. 10-Jan. 31 | 1 tundra swan per permit.
Virginia | Nov. 21-Jan. 31 | 1 tundra swan per permit.
CENTRAL FLYWAY (1)
Montana | Sept. 29-Jan. 3 | 1 tundra swan per permit.
North Dakota | Sept. 29-Dec. 30 | 1 tundra swan per permit.
South Dakota | Sept. 29-Jan. 11 | 1 tundra swan per permit.
PACIFIC FLYWAY (1)
Montana (2) | Oct. 6-Dec. 1 | 1 swan per season.
Nevada (3)(4) | Oct. 6-Jan. 6 | 2 swans per season.
Utah (4)(5) | Oct. 6-Dec. 9 | 1 swan per season.
(1) See State regulations for description of area open to swan hunting.
(2) In Montana, all harvested swans must be reported by way of a bill measurement card within 3 days of harvest.
(3) In Nevada, all harvested swans and tags must be checked or registered within 3 days of harvest.
(4) Harvests of trumpeter swans are limited to 5 in Nevada and 10 in Utah. When it has been determined that the quota of trumpeter swans allotted to Nevada and Utah have been filled, the season for taking of any swan species in the respective State will be closed by either the Director upon giving public notice through local information media at least 48 hours in advance of the time and date of closing, or by the State through State regulations with such notice and time (not less than 48 hours) as they deem necessary.
(5) In Utah, all harvested swans and tags must be checked or registered within 3 days of harvest.

9. Section 20.109 is revised to read as follows:

§ 20.109 Extended seasons, limits, and hours for taking migratory game birds by falconry.

Subject to the applicable provisions of the preceding sections of this part, areas open to hunting, respective open seasons (dates inclusive), hawking hours, and daily bag and possession limits for the species designated in this section are prescribed as follows:

Hawking hours are one-half hour before sunrise until sunset except as otherwise restricted by State regulations.

Area descriptions were published in the June 4, 2018, Federal Register (83 FR 25738).

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Limits: The daily bag limit may include no more than 3 migratory game birds, singly or in the aggregate. The possession limit is three times the daily bag limit. These limits apply to falconry during both regular hunting seasons and extended falconry seasons, unless further restricted by State regulations. The falconry bag and possession limits are not in addition to regular season limits. Unless otherwise specified, extended falconry for ducks does not include sea ducks within the special sea duck areas.

Although many States permit falconry during the gun seasons, only extended falconry seasons are shown below. Please consult State regulations for details.

| Extended falconry dates
ATLANTIC FLYWAY
Delaware:
Doves | Feb. 1-Feb. 20.
Rails | Nov. 22-Jan. 3.
Woodcock | Oct. 1-Nov. 3 & Feb. 1-Mar. 9.
Ducks, mergansers, and coots | Jan. 27-Mar. 2.
Brant | Nov. 19-Dec. 1 & Jan. 27-Mar. 8.
Florida:
Doves | Jan. 16-Feb. 1.
Rails | Nov. 10-Dec. 16.
Woodcock | Nov. 24-Dec. 17 & Feb. 1-Mar. 10.
Common moorhens | Nov. 10-Dec. 14.
Ducks, mergansers, light geese, and coots | Nov. 3-Nov. 12 & Feb. 4-Mar. 1.
Maine:
Ducks, mergansers, and coots (1):
North Zone | Dec. 22-Feb. 12.
South & Coastal Zones | Jan. 7-Feb. 27.
Maryland:
Doves | Jan. 14-Jan. 31.
Rails | Nov. 22-Dec. 26.
Woodcock | Oct. 1-Oct. 26 & Feb. 4-Mar. 10.
Ducks | Jan. 30-Mar. 10.
Brant | Feb. 1-Mar. 10.
Light Geese | Feb. 26-Mar. 10.
Massachusetts:
Ducks, mergansers, sea ducks, and coots | Jan. 11-Feb. 8.
New Hampshire:
Ducks, mergansers, and coots:
Northern Zone | Dec. 1-Jan. 14.
Inland Zone | Nov. 5-Nov. 20 & Dec. 17-Jan. 14.
Coastal Zone | Jan. 25-Mar. 10.
New Jersey:
Woodcock:
North Zone | Oct. 1-Oct. 19 & Dec. 3-Jan. 16.
South Zone | Oct. 1-Nov. 9 & Dec. 5-Dec. 12 & Jan. 2-Jan. 16.
Ducks, mergansers, coots, and brant:
North Zone | Jan. 16-Mar. 9.
South Zone | Jan. 18-Mar. 9.
Coastal Zone | Jan. 27-Mar. 9.
New York:
Ducks, mergansers and coots:
Long Island Zone | Nov. 1-Nov. 21 & Nov. 23-Nov. 30 & Jan. 28-Feb. 13.
Northeastern Zone | Oct. 1-Oct. 5 & Oct. 29-Nov. 2 & Dec. 10-Jan. 13.
Southeastern Zone | Oct. 1-Oct. 5 & Oct. 15-Nov. 9 & Dec. 31-Jan. 13.
Western Zone | Oct. 1-Oct. 26 & Dec. 9-Dec. 25.
North Carolina:
Doves | Oct. 13-Oct. 27.
Rails, moorhens, and gallinules | Dec. 1-Jan. 5.
Woodcock | Nov. 3-Dec. 1 & Feb. 1-Feb. 28.
Ducks, mergansers and coots | Oct. 23-Nov. 3 & Jan. 28-Feb. 16.
Pennsylvania:
Doves | Nov. 26-Dec. 14.
Rails | Nov. 22-Jan. 3.
Woodcock and snipe | Sept. 1-Oct. 12 & Nov. 26-Dec. 8 & Dec. 19-Jan. 3.
Moorhens and gallinules | Nov. 22-Jan. 1.
Ducks, mergansers, and coots:
North Zone | Nov. 19-Dec. 17 & Feb. 15-Mar. 9.
South Zone | Oct. 22-Nov. 19 & Feb. 15-Mar. 9.
Northwest Zone | Dec. 10-Dec. 22 & Jan. 30-Mar. 9.
Lake Erie Zone | Jan. 17-Mar. 9.
Canada Geese:
SJBP Zone | Mar. 1-Mar. 9.
AP Zone | Feb. 1-Mar. 9.
RP Zone | Mar. 5-Mar. 9.
South Carolina:
Ducks, mergansers, and coots | Oct. 31-Nov. 16 & Nov. 25-Dec. 7.
Virginia:
Doves | Jan. 15-Jan. 31.
Woodcock | Oct. 17-Oct. 26 & Nov. 3-Dec. 7 & Jan. 15-Jan. 31.
Rails, moorhens, and gallinules | Nov. 17-Dec. 23.
Ducks, mergansers, and coots | Dec. 3-Dec. 14 & Jan. 28-Feb. 15.
Canada Geese:
Eastern (AP) Zone | Dec. 15-Dec. 20 & Jan. 28-Feb. 20.
Western (SJBP) Zone | Dec. 15-Dec. 17 & Feb. 16-Feb. 20.
Brant | Oct. 17-Nov. 20 & Dec. 3-Dec. 14.
MISSISSIPPI FLYWAY:
Arkansas:
Ducks, mergansers, and coots | Feb. 1-Feb. 15.
Illinois:
Doves | Nov. 15-Dec. 1.
Rails | Sept. 1-Sept. 7 & Nov. 17-Dec. 16.
Woodcock | Sept. 1-Oct. 19 & Dec. 4-Dec. 16.
Ducks, mergansers, and coots | Feb. 10-Mar. 10.
Indiana:
Doves | Oct. 15-Oct. 31.
Woodcock | Sept. 20-Oct. 14 & Nov. 29-Jan. 4.
Ducks, mergansers, and coots:
North Zone | Sept. 27-Sept. 30 & Feb. 14-Mar. 10.
Central Zone | Oct. 20-Oct. 26 & Feb. 17-Mar. 10.
South Zone | Oct. 27-Nov. 2 & Feb. 17-Mar. 10.
Iowa:
Ducks, mergansers, and coots | Jan. 5-Feb. 2.
Kentucky:
Ducks, mergansers, and coots | Nov. 26-Dec. 2 & Jan. 28-Feb. 15.
Louisiana:
Doves | Sept. 15-Oct. 1.
Woodcock | Nov. 2-Dec. 17.
Rails and moorhens:
West Zone | Nov. 2-Nov. 9 & Jan. 3-Jan. 31.
East Zone | Nov. 3-Nov. 9 & Jan. 3-Jan. 31.
Coastal Zone | Nov. 2-Nov. 9 & Jan. 3-Jan. 31.
Ducks:
West Zone | Nov. 3-Nov. 9 & Dec. 3-Dec. 14 & Jan. 21-Jan. 31.
East Zone | Nov. 3-Nov. 16 & Dec. 3-Dec. 14 & Jan. 28-Jan. 31.
Coastal Zone | Nov. 3-Nov. 9 & Dec. 3-Dec. 14 & Jan. 21-Jan. 31.
Michigan:
Ducks, mergansers, coots, and moorhens | Dec. 31-Jan. 12 & Feb. 23-Mar. 10.
Minnesota:
Woodcock | Sept. 1-Sept. 21 & Nov. 6-Dec. 16.
Rails and snipe | Nov. 6-Dec. 16.
Doves | Nov. 30-Dec. 16.
Ducks, mergansers, coots, moorhens, and gallinules | Dec. 15-Jan. 29.
Mississippi:
Doves | Nov. 14-Nov. 30.
Ducks, mergansers and coots | Feb. 3-Mar. 3.
Missouri:
Doves | Nov. 30-Dec. 16.
Ducks, mergansers, and coots | Sept. 8-Sept. 23 & Feb. 10-Mar. 10.
Tennessee:
Doves | Sept. 29-Sept. 30 & Jan. 16-Jan. 30.
Rails, moorhens, and gallinules | Nov. 10-Dec. 14.
Woodcock | Dec. 25-Feb. 15.
Ducks, mergansers, and coots | Nov. 26-Nov. 30 & Jan. 28-Feb. 24.
Wisconsin:
Rails, snipe, moorhens, and gallinules:
North Zone | Sept. 1-Sept. 28 & Nov. 28-Dec. 16.
South Zone | Sept. 1-Sept. 28 & Oct. 8-Oct. 12 & Dec. 3-Dec. 16.
Mississippi River Zone | Sept. 1-Sept. 28 & Oct. 6-Oct. 12 & Dec. 5-Dec. 16.
Woodcock | Sept. 1-Sept. 21 & Nov. 6-Dec. 16.
Ducks, mergansers, and coots | Sept. 15-Sept. 16 & Jan. 11-Feb. 17.
CENTRAL FLYWAY:
Kansas:
Ducks, mergansers, and coots:
Low Plains | Feb. 24-Mar. 10.
Montana (2):
Ducks, mergansers, and coots | Sept. 19-Sept. 28.
Nebraska:
Ducks, mergansers, and coots:
Zone 1 | Feb. 25-Mar. 10.
Zone 2 | Feb. 25-Mar. 10.
Zone 3 | Feb. 25-Mar. 10.
Zone 4 | Feb. 25-Mar. 10.
New Mexico:
Doves
North Zone | Nov. 30-Dec. 4 & Dec. 22-Jan. 2.
South Zone | Oct. 29-Nov. 5 & Nov. 22-Nov. 30.
Ducks and coots | Sept. 15-Sept. 23.
Sandhill cranes (3)
Regular Season Area | Oct. 13-Oct. 26.
Estancia Valley Area | Nov. 5-Dec. 25.
Common moorhens | Nov. 24-Dec. 30.
Sora and Virginia rails | Nov. 24-Dec. 30.
North Dakota:
Ducks, mergansers, coots, and snipe | Sept. 3-Sept. 7 & Sept. 10-Sept. 14.
Oklahoma:
Doves | Feb. 22-Mar. 10.
Ducks, mergansers, and coots:
Low Plains | Feb. 18-Mar. 4.
Gallinules and rails | Feb. 2-Mar. 10.
Woodcock | Dec. 15-Feb. 14.
Sandhill cranes | Jan. 21-Feb. 3.
South Dakota:
Ducks, mergansers, and coots:
High Plains | Sept. 1-Sept. 8.
Low Plains:
North Zone | Sept. 1-Sept. 28 & Dec. 12-Dec. 16.
Middle Zone | Sept. 1-Sept. 28 & Dec. 12-Dec. 16.
South Zone | Oct. 5-Oct. 26 & Jan. 2-Jan. 10.
Texas:
Doves | Nov. 17-Dec. 3.
Rails, gallinules, and woodcock | Jan. 28-Feb. 11.
Ducks, mergansers, and coots:
Low Plains | Jan. 28-Feb. 11.
Wyoming:
Doves | Nov. 30-Dec. 16.
Rails | Nov. 10-Dec. 16.
Ducks, mergansers, and coots
Zone C1 | Sept. 22-Sept. 23 & Oct. 17-Oct. 24.
Zone C2 & C3 | Sept. 15-Sept. 21 & Dec. 3-Dec. 5.
PACIFIC FLYWAY:
Arizona:
Doves | Sept. 16-Nov. 1.
Ducks, mergansers, coots, and moorhens:
North Zone | Oct. 1-Oct. 4.
South Zone | Jan. 28-Jan. 31.
California:
Ducks, mergansers, coots, and moorhens:
Colorado River Zone | Jan. 28-Jan. 31.
Southern Zone | Jan. 28-Feb. 1.
Southern San Joaquin Valley Zone | Jan. 28-Jan. 30.
Geese:
Southern Zone (4) | Jan. 28-Feb. 1.
New Mexico
Doves:
North Zone | Nov. 30-Dec. 4 & Dec. 22-Jan. 2.
South Zone | Oct. 29-Nov. 5 & Nov. 22-Nov. 30.
Oregon
Doves | Oct. 31-Dec. 16.
Band-tailed pigeons (5) | Sept. 1-Sept. 14 & Sept. 24-Dec. 16.
Utah:
Doves | Oct. 31-Dec. 16.
Band-tailed pigeons | Sept. 15-Dec. 16.
Washington:
Doves | Oct. 31-Dec. 16.
Ducks, mergansers, coots, and dark geese:
East Zone | Sept. 29-Sept. 30.
West Zone | Sept. 22-Sept. 23.
Wyoming:
Doves | Nov. 30-Dec. 16.
Sora and Virginia rails | Nov. 10-Dec. 16.
Ducks, mergansers, and coots | Sept. 15-Sept. 16.
(1) In Maine, the daily bag and possession limits for black ducks are 1 and 3, respectively.
(2) In Montana, the bag limit is 2 and the possession limit is 6.
(3) In New Mexico, the bag limit for sandhill cranes is 3 per day and the possession limit is 6 per season.
(4) In California, in the Imperial County Special Management Area, there is no extended falconry season.
(5) In Oregon, no more than 1 pigeon daily in bag or possession.

[FR Doc. 2018-17321 Filed 8-13-18; 8:45 am]

BILLING CODE 4333-15-P